DEPARTMENT OF THE INTERIOR

Fish and Wildlife Service

50 CFR Part 10

[Docket No. FWS-HQ-MB-2018-0047; FXMB 12320900000//189//FF09M29000]

RIN 1018-BC67

General Provisions; Revised List of Migratory Birds

AGENCY: Fish and Wildlife Service, Interior.

ACTION: Proposed rule.

SUMMARY: We, the U.S. Fish and Wildlife Service (Service), propose to revise the List of Migratory Birds protected by the Migratory Bird Treaty Act (MBTA) by both adding and removing species. Reasons for the changes to the list include adding species based on new taxonomy and new evidence of natural occurrence in the United States or U.S. territories, removing species no longer known to occur within the United States or U.S. territories, and changing names to conform to accepted use. The net increase of 59 species (66 added and 7 removed) would bring the total number of species protected by the MBTA to 1,085. We regulate the taking, possession, transportation, sale, purchase, barter, exportation, and importation of migratory birds. An accurate and up-to-date list of species protected by the MBTA is essential for public notification and regulatory purposes.

DATES: We will accept comments received or postmarked on or before January 28, 2019. Comments submitted electronically using the Federal eRulemaking Portal (see ADDRESSES, below) must be received by 11:59 p.m. Eastern Time on the closing date.

ADDRESSES: You may submit comments by one of the following methods:

(1) Electronically: Go to the Federal eRulemaking Portal: http://www.regulations.gov. In the Search box, enter FWS-HQ-MB-2018-0047, which is the docket number for this rulemaking. Then, click on the Search button. On the resulting page, in the Search panel on the left side of the screen, under the Document Type heading, click on the Proposed Rule box to locate this document. You may submit a comment by clicking on “Comment Now!”

(2) By hard copy: Submit by U.S. mail or hand-delivery to: Public Comments Processing, Attn: FWS-HQ-MB-2018-0047, U.S. Fish and Wildlife Service, MS: BPHC, 5275 Leesburg Pike, Falls Church, VA 22041-3803.

We request that you send comments only by the methods described above. We will post all comments on http://www.regulations.gov. This generally means that we will post any personal information you provide us (see Public Comments, below, for more information).

FOR FURTHER INFORMATION CONTACT: Eric L. Kershner, Chief of the Branch of Conservation, Permits, and Regulations; Division of Migratory Bird Management; U.S. Fish and Wildlife Service; MS: MB; 5275 Leesburg Pike, Falls Church, VA 22041-3803; (703) 358-2376.

SUPPLEMENTARY INFORMATION:

What statutory authority does the service have for this rulemaking?

We have statutory authority and responsibility for enforcing the MBTA (16 U.S.C. 703-712), the Fish and Wildlife Improvement Act of 1978 (16 U.S.C. 742l), and the Fish and Wildlife Act of 1956 (16 U.S.C. 742a-j). The MBTA implements Conventions between the United States and four neighboring countries for the protection of migratory birds, as follows:

(1) Canada: Convention between the United States and Great Britain [on behalf of Canada] for the Protection of Migratory Birds, August 16, 1916, 39 Stat. 1702 (T.S. No. 628), as amended by Protocol between the Government of the United States and the Government of Canada Amending the 1916 Convention between the United Kingdom and the United States of America for the Protection of Migratory Birds, Sen. Treaty Doc. 104-28 (December 14, 1995);

(2) Mexico: Convention between the United States and Mexico for the Protection of Migratory Birds and Game Mammals, February 7, 1936, 50 Stat. 1311 (T.S. No. 912), as amended by Protocol with Mexico amending Convention for Protection of Migratory Birds and Game Mammals, Sen. Treaty Doc. 105-26 (May 5, 1997);

(3) Japan: Convention between the Government of the United States of America and the Government of Japan for the Protection of Migratory Birds and Birds in Danger of Extinction, and Their Environment, March 4, 1972, 25 U.S.T. 3329 (T.I.A.S. No. 7990); and

(4) Russia: Convention between the United States of America and the Union of Soviet Socialist Republics Concerning the Conservation of Migratory Birds and Their Environment (Russia), November 19, 1976, 29 U.S.T. 4647 (T.I.A.S. No. 9073).

What is the purpose of this rulemaking?

Our purpose is to inform the public of the species protected by the MBTA and its implementing regulations. These regulations are found in Title 50, Code of Federal Regulations (CFR), parts 10, 20, and 21. We regulate the taking, possession, transportation, sale, purchase, barter, exportation, and importation of migratory birds. An accurate and up-to-date list of species protected by the MBTA is essential for notifying the public of regulatory protections.

Why is the amendment of the list of migratory birds necessary?

The amendments we are proposing are needed to:

(1) Add 17 species that qualify for protection under the MBTA;

(2) Correct the spelling of 3 species names on the alphabetized list;

(3) Correct the spelling of 3 species names on the taxonomic list;

(4) Add 22 species based on new distributional records documenting their natural occurrence in the United States or U.S. territories since 2010;

(5) Add one species moved from a family that was not protected to a family now protected under the MBTA as a result of taxonomic changes;

(6) Add 26 species newly recognized as a result of recent taxonomic changes;

(7) Remove 7 species not known to occur within the boundaries of the United States or U.S. territories as a result of recent taxonomic changes;

(8) Change the common (English) names of 40 species to conform to accepted use; and

(9) Change the scientific names of 114 species to conform to accepted use.

The List of Migratory Birds (50 CFR 10.13) was last revised on November 1, 2013 (78 FR 65844). The amendments proposed in this rule were necessitated by eight published supplements to the 7th (1998) edition of the American Ornithologists' Union (AOU, now recognized as American Ornithological Society (AOS)) Check-list of North American Birds (AOU 2011, AOU 2012, AOU 2013, AOU 2014, AOU 2015, AOU 2016, AOS 2017, and AOS 2018) and the 2017 publication of the Clements Checklist of Birds of the World (Clements et al. 2017).

What scientific authorities are used to amend the list of migratory birds?

Although bird names (common and scientific) are relatively stable, staying current with standardized use is necessary to avoid confusion in communications. In making our determinations, we primarily relied on the AOS's Checklist of North American birds (AOU 1998), as amended annually (AOU 1999 through 2016, AOS 2017, AOS 2018), on matters of taxonomy, nomenclature, and the sequence of species and other higher taxonomic categories (Orders, Families, Subfamilies) for species that occur in North America. The AOS Checklist contains all bird species that have occurred in North America from the Arctic through Panama, including the West Indies and the Hawaiian Islands, and includes distributional information for each species, which specifies whether the species is known to occur in the United States. For the species that occur outside the geographic area covered by the AOS Checklist, we relied on Clements et al. (2017) and peer-reviewed literature. Although we primarily rely on the above sources, when informed taxonomic opinion is inconsistent or controversial, we evaluate available published and unpublished information and come to our own conclusion regarding the validity of taxa.

What criteria are used to identify individual species protected by the MBTA?

A species qualifies for protection under the MBTA by meeting one or more of the following criteria:

(1) It occurs in the United States or U.S. territories as the result of natural biological or ecological processes and is currently, or was previously listed as, a species or part of a family protected by one of the four international treaties or their amendments. Any species that occurs in the United States or U.S. territories solely as a result of intentional or unintentional human-assisted introduction does not qualify for the MBTA list, regardless of whether the family the species belongs to is listed in any of the treaties, unless:

• It was native to the United States or its territories and extant in 1918;

• It was extirpated after 1918 throughout its range in the United States and its territories; and

• After such extirpation, it was reintroduced in the United States or its territories as part of a program carried out by a Federal agency.

(2) Revised taxonomy results in it being newly split from a species that was previously on the list, and the new species occurs in the United States or U.S. territories as the result of natural biological or ecological processes. If a newly recognized native species is considered extinct (following the classification of the American Ornithological Society (AOS) or, for species not covered by the AOS, the Clements checklist or peer-reviewed literature), that species will still be included if either of the following criteria apply:

• The species resembles extant species included in the list that may be affected by trade if the species is not included; or

• Not including the species may create difficulties implementing the MBTA and its underlying Conventions.

(3) New evidence exists for its natural occurrence in the United States or U.S. territories resulting from new or natural distributional changes and the species occurs in a protected family. Records must be documented, accepted, and published by the AOS committee. For the U.S. Pacific territories that fall outside the geographic scope of the AOS and for which there is no identified ornithological authority, new evidence of a species' natural occurrence will be based on the Clements checklist and then published peer-reviewed literature, in that order.

In accordance with the Migratory Bird Treaty Reform Act of 2004 (MBTRA) (Pub. L. 108-447, 118 Stat. 2809, 3071-72), we only include migratory bird species that are native to the United States or U.S. territories. A native migratory bird species is one that is present as a result of natural biological or ecological processes. The list at 50 CFR 10.13 does not include nonnative species that occur in the United States or U.S. territories solely as a result of intentional or unintentional human-assisted introduction(s). Elsewhere in today's Federal Register, we publish a notice of availability of the draft revised list of nonnative bird species that are not protected under the MBTA.

How would the proposed changes affect the list of migratory birds?

Several taxonomic changes were made at the Order and Family level by the AOS since our 2013 publication of the list (78 FR 65844; November 1, 2013). These changes affect the inclusion and taxonomic order of species on this list. Specifically, the Order Cathartiformes (New World vultures) was split from the Accipitriformes (diurnal birds of prey). Cathartiformes now includes the Family Cathartidae (vultures and California condor). At the Family level, the Oceanitidae (southern storm-petrels) was split from the Hydrobatidae (northern storm-petrels), the Tityridae (becards and tityras) was split from the Tyrannidae (tyrant flycatchers), the Passerellidae (towhees, sparrows, and juncos) was split from the Emberizidae (buntings), the Megaluridae (Locustella warblers) was renamed to Locustellidae. The Ptilogonatidae (silky-flycatchers) was renamed to the Ptiliogonatidae. The Nesospingidae (Puerto Rican tanager) and the Spindalidae (Spindalis genus) were split from the Thraupidae (tanagers). The yellow-breasted chat was split from the Parulidae (wood-warblers) and placed into Icteriidae (chats). Within the Scolopacidae (sandpipers, phalaropes, and allies), new Subfamilies were created: The curlews were moved to Numeniinae; the godwits to Limosinae; and small sandpipers to Arenariinae and larger sandpipers to Tringinae, including phalaropes whose previous Subfamily Phalaropodinae was removed. Within the Accipitridae (hawks, eagles, and kites), new Subfamilies were created: The white-tailed kite was move to Elaninae, hook-billed and swallow-tailed kite were moved to Gypaetinae, and all other members of the family were moved to Accipitrinae. Within the Icteridae (blackbirds), new Subfamilies were created: Yellow-headed blackbird was moved to Xanthocephalinae; bobolink was moved to Dolichonychinae; meadowlarks were moved to Sturnellinae; orioles were moved to Icterinae; and blackbirds, cowbirds, and grackles were moved to Agelaiinae. In the Falconidae (caracaras and falcons), collared forest-falcon was moved into the new Subfamily Herpetotherinae, and the Subfamily Caracarinae was removed, with crested caracara moved to the Subfamily Falconinae. In the Fringillidae (finches and allies), the Hawaiian fringillids were moved from the Subfamily Drepanidinae to Carduelinae. The Old World flycatchers in the Turdidae (thrushes) were moved to the Muscicapidae (Old World flycatchers). Bananaquit was moved from the Coerebidae (a family not protected by MBTA) to the Thraupidae (tanagers and allies), which is a family protected by the MBTA. All other tanagers were also moved from the Emberizidae (sparrows) to the Thraupidae. Within Thraupidae, the seedeaters were moved into the Subfamily Sporophilinae, and bananaquit, grassquits, and bullfinches were moved into the Subfamily Coerebinae.

All species previously receiving protection under the MBTA that have been moved to newly created Families continue to be protected under the MBTA.

The proposed amendments (66 additions, 7 removals, and 154 name changes) would affect a total of 204 species and would result in a net addition of 59 species to the List of Migratory Birds, increasing the number of species on the list from 1,026 to 1,085. Of the 66 species that we would add to the list, 26 were previously covered under the MBTA as members of the same species (conspecific) of listed species. These proposed amendments can be logically arranged in the following nine categories:

(1) Add 17 species that qualify for protection by the MBTA but have not been added previously. The addition of these species is the result of either accepting AOS taxonomic updates that were previously excluded or determinations of documented natural occurrence in the United States or U.S. territories. The species and relevant publication(s) are:

Pink-footed Goose, Anser brachyrhynchus (AOU 1983);

Cackling Goose, Branta hutchinsii (AOU 2003);

European Turtle-Dove, Streptopelia turtur (AOU 2007);

Long-tailed Koel, Urodynamis taitensis (Wiles 2005);

White-tailed Nightjar, Hydropsalis cayennensis (AOU 1983);

Vervain Hummingbird, Mellisuga minima (AOU 1983);

Kentish Plover, Charadrius alexandrinus (Enbring and Owen 1981);

Common Redshank, Tringa totanus (Wiles 2005);

Nazca Booby, Sula granti (AOU 2000);

Abbott's Booby, Papasula abbotti (Pratt et al. 2009);

Rufous Night-Heron, Nycticorax caledonicus (Glass et al. 1990);

Gray-faced Buzzard, Butastur indicus (Stinson et al. 1997);

Eastern Marsh-Harrier, Circus spilonotus (Wiles et al. 2000);

Amur Falcon, Falco amurensis (Stinson et al. 1991);

Eurasian Jackdaw, Corvus monedula (AOU 1998);

Redwing, Turdus iliacus (AOU 1983);

Common Kingfisher, Alcedo atthis (Wiles et al. 1993).

(2) Correct the spelling of three common or scientific names on the alphabetized list:

Eared Quetzel, Euptilotis neoxenus, becomes Eared Quetzal

Red-footed falcon, Flaco vespertinus, becomes Falco vespertinus

Piratic Flycatcher, Legatus leucophalus becomes Legatus leucophaius

(3) Correct the spelling of three common or scientific names on the taxonomic list:

Eared Quetzel, Euptilotis neoxenus, becomes Eared Quetzal

White-crested Eleania, Elaenia albiceps becomes White-crested Elaenia

Piratic Flycatcher, Legatus leucophalus becomes Legatus leucophaius

(4) Add 22 species based on review and acceptance by the AOS (since 2010) or by other appropriate ornithological authorities of new distributional records documenting their occurrence in the United States or U.S. territories. These species belong to families covered by at least one of the four international conventions, and all are considered to be of accidental or casual occurrence. For each species, we list the State in which it has been recorded plus the relevant publication:

Common Scoter, Melanitta nigra—California and Oregon (AOS 2017);

Amethyst-throated Hummingbird, Lampornis amethystinus—Texas (AOS 2018);

Rufous-necked Wood-Rail, Aramides axillaris—New Mexico (AOU 2016);

Solitary Snipe, Gallinago solitaria—Alaska (AOU 2011);

Chatham Albatross, Thalassarche eremita—California (AOS 2017);

Providence Petrel, Pterodroma solandri—Alaska (AOU 2013);

Fea's Petrel, Pterodroma feae—North Carolina, Georgia, Virginia (AOU 2013);

Zino's Petrel, Pterodroma madeira—North Carolina, (AOU 2015);

White-chinned Petrel, Procellaria aequinoctialis—Texas, California, Maine (AOU 2011);

Bryan's Shearwater, Puffinus bryani—Hawaii (AOU 2012);

Bare-throated Tiger-Heron, Tigrisoma mexicanum—Texas (AOU 2011);

Double-toothed Kite, Harpagus bidentatus—Texas (AOU 2013);

Amazon Kingfisher, Chloroceryle amazona—Texas (AOU 2011);

Gray-collared Becard, Pachyramphus major—Arizona (AOU 2011);

Pine Flycatcher, Empidonax affinis—Arizona (AOS 2018);

Cuban Vireo, Vireo gundlachii—Florida (AOS 2018);

Common Chiffchaff, Phylloscopus collybita—Alaska (AOU 2014);

Blyth's Reed Warbler, Acrocephalus dumetorum—Alaska (AOU 2017);

Common Redstart, Phoenicurus phoenicurus—Alaska (AOU 2015);

Brown-backed Solitaire, Myadestes occidentalis—Arizona (AOU 2011);

Asian Rosy-Finch, Leucosticte arctoa—Alaska (AOU 2013);

Red-legged Honeycreeper, Cyanerpes cyaneus—Texas (AOS 2017).

(5) Add one species because of recent taxonomic changes transferring a species in a Family formerly not protected by the MBTA (Coerebidae) into a Family protected under the MBTA (Thraupidae). We reference the AOU publication supporting the change: Bananaquit, Coereba flaveola, (AOU 2015).

(6) Add 26 species because of recent taxonomic changes in which taxa formerly treated as conspecific have been determined to be distinct species. Given that each of these species was formerly treated as conspecific with a listed species, these additions would not change the protective status of any of these taxa, only the names by which they are known. In each case, we reference the AOS or relevant publication supporting the change:

Ridgway's Rail, Rallus obsoletus—formerly considered conspecific with Clapper Rail, Rallus longirostris (AOU 2014);

Common Gallinule, Gallinula galeata—formerly considered conspecific with Common Moorhen, Gallinula chloropus (AOU 2011);

Scripps's Murrelet, Synthliboramphus scrippsi—formerly considered conspecific with Xantus's Murrelet, Synthliboramphus hypoleucus (AOU 2012);

Salvin's Albatross, Thalassarche salvini—formerly considered conspecific with Shy Albatross, Thalassarche cauta (AOU 2014);

Trindade Petrel, Pterodroma arminjoniana —formerly considered conspecific with Herald Petrel, Pterodroma heraldica (AOU 2015);

Newell's Shearwater, Puffinus newelli—formerly considered conspecific with Townsend's Shearwater, Puffinus auricularis (AOU 2015);

Barolo Shearwater, Puffinus baroli—formerly considered conspecific with Little Shearwater, Puffinus assimilis (AOU 2013);

Townsend's Storm-Petrel, Oceanodroma socorroensis—formerly considered conspecific with Leach's Storm-Petrel, Oceanodroma leucorhoa (AOU 2016);

Northern Boobook, Ninox japonica—formerly considered conspecific with Brown Hawk-Owl, Ninox scutulata (AOU 2014);

Pacific Kingfisher, Todiramphus sacer—formerly considered conspecific with Collared Kingfisher, Todiramphus chloris (Clements et al. 2015);

Mariana Kingfisher, Todiramphus albicilla—formerly considered conspecific with Collared Kingfisher, Todiramphus chloris (Clements et al. 2015);

Woodhouse's Scrub-Jay, Aphelocoma woodhouseii—formerly considered conspecific with Western Scrub-Jay, Aphelocoma californica (AOU 2016);

Kamchatka Leaf Warbler, Phylloscopus examinandus—formerly considered conspecific with Arctic Warbler, Phylloscopus borealis (AOU 2014);

Saipan Reed Warbler, Acrocephalus hiwae—formerly considered conspecific with Nightingale Reed Warbler, Acrocephalus luscinius (Clements et al. 2013);

Aguiguan Reed Warbler, Acrocephalus nijoi—formerly considered conspecific with Nightingale Reed Warbler, Acrocephalus luscinius (Clements et al. 2013);

Pagan Reed Warbler, Acrocephalus yamashinae—formerly considered conspecific with Nightingale Reed Warbler, Acrocephalus luscinius (Clements et al. 2013);

Laysan Honeycreeper, Himatione fraithii— formerly considered conspecific with Apapane, Himatione sanguinea (AOU 2015)

Kauai Nukupu'u, Hemignathus hanapepe—formerly considered conspecific with Nukupuu, Hemignathus lucidus (AOU 2015);

Maui Nukupu'u, Hemignathus affins—formerly considered conspecific with Nukupuu, Hemignathus lucidus (AOU 2015);

Kauai 'Akialoa, Akialoa stejnegeri—formerly considered conspecific with Greater Akialoa, Hemignathus ellisianus (AOU 2015);

Maui Nui 'Akialoa, Akialoa lanaiensis—formerly considered conspecific with Greater Akialoa, Hemignathus ellisianus (AOU 2015);

O'ahu 'Akepa, Loxops wolstenholmei—formerly considered conspecific with Akepa, Loxops coccineus (AOU 2015);

Maui 'Akepa, Loxops ochraceus—formerly considered conspecific with Akepa, Loxops coccineus (AOU 2015);

Cassia Crossbill, Loxia sinesciuris—formerly considered conspecific with Red Crossbill, Loxia curvirostra (AOS 2017);

Sagebrush Sparrow, Artemisiospiza nevadensis—formerly considered conspecific with Sage Sparrow, Amphispiza belli (AOU 2013);

Morelet's Seedeater, Sporophila morelleti—formerly considered conspecific with White-collared Seedeater, Sporophila torqueola (AOS 2018).

(7) Remove seven species based on revised taxonomic treatments, either because a species is taxonomically merged with another species, either on or off the list; a species previously on the list is taxonomically split into multiple species and the new species is not known to occur within the United States or U.S. territories; or the species is considered extinct (following the classification of the AOS or, for species not covered by the AOS, the Clements checklist or peer-reviewed literature) unless any of the following criteria apply: It is protected under the Endangered Species Act of 1973, as amended (ESA; 16 U.S.C. 1531 et seq.), or the Convention on International Trade in Endangered Species of Wild Fauna and Flora (CITES; 27 U.S.T. 1087); it resembles extant species included in the list that may be affected by its removal; or its removal would create difficulties implementing the MBTA and its underlying Conventions. In each case, we reference the publication supporting these changes:

Thayer's Gull, Larus thayeri, now a subspecies of Iceland Gull, Larus glaucoides (AOS 2017);

Townsend's Shearwater, Puffinus auricularis (AOU 2015);

Little Shearwater, Puffinus assimilis (AOU 2015);

Brown Hawk-Owl, Ninox scutulata (AOU 2014);

Caribbean Coot, Fulica caribaea (AOU 2016);

Collared Kingfisher, Todiramphus chloris (Clements et al. 2015);

White-collared Seedeater, Sporophila torqueola (AOS 2018).

(8) Revise the common (English) names of 40 species to conform to the most recent nomenclatural treatment as described in AOU publications 2011, 2012, 2013, 2014, 2015, 2016, AOS 2017, AOS 2018, and Clements et al. (2017). Hawaiian species names are modified to official Hawaiian spelling, following the Pukui-Elbert Hawaiian Dictionary, adding the diacritical marks to the common names where applicable. The Government Publishing Office Style Manual requires the words Hawaii and Kauai to be spelled without the diacritical mark. These revisions do not change the protective status of any of these taxa, only the names by which they are known. In each case, the update is described in the table, below.

(9) Revise the scientific names of 114 species to conform to the most recent nomenclatural treatment as described in AOU publications 2011, 2012, 2013, 2014, 2015, 2016, AOS 2017, AOS 2018, and Clements et al. (2017). These revisions do not change the protective status of any of these taxa, only the names by which they are known. In each case, the update is described in the table, below.

Table of Proposed Name Changes, as described in categories 8 and 9, above. Table is organized following AOS (2017) taxonomic order. The relevant AOS publication is provided. Hawaiian common name changes are indicated with a (—).

Publication source and year | Previous common name | Current common name
AOU 2004 | Canada Goose (including Branta hutchinsii), Branta canadensis | Canada Goose, Branta canadensis.
AOU 2016 | Green Violetear, Colibri thalassinus | Mexican Violetear, Colibri thalassinus.
AOS 2017 | Magnificent hummingbird, Eugenes fulgens | Rivoli's Hummingbird, Eugenes fulgens.
AOU 2012 | Xantus's Murrelet, Synthliboramphus hypoleucus | Guadalupe Murrelet, Synthliboramphus hypoleucus.
AOU 2014 | Shy Albatross, Thalassarche cauta | White-capped Albatross, Thalassarche cauta.
AOU 2015 | Herald Petrel, Pterodroma arminjoniana | Trindade Petrel, Pterodroma arminjoniana.
Clements et al. 2000 | Pacific Reef-Egret, Egretta sacra | Pacific Reef-Heron, Egretta sacra.
AOU 2012 | Gray Frog-Hawk, Accipiter soloensis | Chinese Sparrowhawk, Accipiter soloensis.
AOU 2014 | Common Black-Hawk, Buteogallus anthracinus | Common Black Hawk, Buteogallus anthracinus.
AOS 2018 | Gray Jay, Perisoreus canadensis | Canada Jay, Perisoreus canadensis.
AOU 2016 | Western Scrub-Jay, Aphelocoma californica | California Scrub-Jay, Aphelocoma californica.
AOU 2016 | Eurasian Sky Lark, Alauda arvensis | Eurasian Skylark, Alauda arvensis.
AOU 2014 | Pallas's Leaf-Warbler, Phylloscopus proregulus | Pallas's Leaf Warbler, Phylloscopus proregulus.
— | Kamao, Myadestes myadestinus | Kãma`o, Myadestes myadestinus.
— | Olomao, Myadestes lanaiensis | Oloma`o, Myadestes lanaiensis.
— | Omao, Myadestes obscurus | `Õma'o, Myadestes obscurus.
AOS 2017 | Le Conte's Thrasher, Toxostoma lecontei | LeConte's Thrasher, Toxostoma lecontei.
AOU 2015 | Nukupuu, Hemignathus lucidus | O`ahu Nukupu`u, Hemignathus lucidus.
— | Poo-uli, Melamprosops phaeosoma | Po`ouli, Melamprosops phaeosoma.
— | Akikiki, Oreomystis bairdi | `Akikiki, Oreomystis bairdi.
— | Oahu Alauahio, Paroreomyza maculata | O`ahu `Alauahio, Paroreomyza maculata.
— | Kakawahie, Paroreomyza flammea | Kãkãwahie, Paroreomyza flammea.
— | Maui Alauahio, Paroreomyza montana | Maui `Alauahio, Paroreomyza montana.
— | Akohekohe, Palmeria dolei | `Akohekohe, Palmeria dolei.
— | Apapane, Himatione sanguinea | `Apapane, Himatione sanguinea.
— | Iiwi, Drepanis coccinea | `I`iwi, Drepanis coccinea.
— | Ou, Psittirostra psittacea | `Õ`ũ, Psittirostra psittacea.
— | Anianiau, Magumma parva | `Anianiau, Magumma parva.
— | Akekee, Loxops caeruleirostris | `Akeke`e, Loxops caeruleirostris.
AOU 2015 | Akepa, Loxops coccineus | Hawaii `Akepa, Loxops coccineus.
AOS 2017 | Le Conte's Sparrow, Ammodramus leconteii | LeConte's Sparrow, Ammodramus leconteii.
AOS 2017 | Emperor Goose, Chen canagica | Emperor Goose, Anser canagicus.
AOS 2017 | Snow Goose, Chen caerulescens | Snow Goose, Anser caerulescens.
AOS 2017 | Ross's Goose, Chen rossii | Ross's Goose, Anser rossii.
AOS 2017 | Baikal Teal, Anas formosa | Baikal Teal, Sibirionetta formosa.
AOS 2017 | Garganey, Anas querquedula | Garganey, Spatula querquedula.
AOS 2017 | Blue-winged Teal, Anas discors | Blue-winged Teal, Spatula discors.
AOS 2017 | Cinnamon Teal, Anas cyanoptera | Cinnamon Teal, Spatula cyanoptera.
AOS 2017 | Northern Shoveler, Anas clypeata | Northern Shoveler, Spatula clypeata.
AOS 2017 | Gadwall, Anas strepera | Gadwall, Mareca strepera.
AOS 2017 | Falcated Duck, Anas falcata | Falcated Duck, Mareca falcata.
AOS 2017 | Eurasian Wigeon, Anas penelope | Eurasian Wigeon, Mareca penelope.
AOS 2017 | American Wigeon, Anas americana | American Wigeon, Mareca americana.
Clements et al. 2017 | White-throated Ground-Dove, Gallicolumba xanthonura | White-throated Ground-Dove, Alopecoenas xanthonura.
Clements et al. 2010 | Hodgson's Hawk-Cuckoo, Cuculus fugax | Hodgson's Hawk-Cuckoo, Hierococcyx nisicolor.
AOU 2012 | Chuck-will's-widow, Caprimulgus carolinensis | Chuck-will's-widow, Antrostomus carolinensis.
AOU 2012 | Buff-collared Nightjar, Caprimulgus ridgwayi | Buff-collared Nightjar, Antrostomus ridgwayi.
AOU 2012 | Eastern Whip-poor-will, Caprimulgus vociferus | Eastern Whip-poor-will, Antrostomus vociferus.
AOU 2012 | Mexican Whip-poor-will, Caprimulgus arizonae | Mexican Whip-poor-will, Antrostomus arizonae.
AOU 2012 | Puerto Rican Nightjar, Caprimulgus noctitherus | Puerto Rican Nightjar, Antrostomus noctitherus.
AOS 2018 | Gray Nightjar, Caprimulgus indicus | Gray Nightjar, Caprimulgus jotaka.
AOU 2012 | Calliope Hummingbird, Stellula calliope | Calliope Hummingbird, Selasphorus calliope.
AOU 2014 | Clapper Rail, Rallus longirostris | Clapper Rail, Rallus crepitans.
AOU 2016 | Yellow-breasted Crake, Porzana flaviventer | Yellow-breasted Crake, Hapalocrex flaviventer.
AOU 2012 | Purple Gallinule, Porphyrio martinica | Purple Gallinule, Porphyrio martinicus.
AOU 2016 | Sandhill Crane, Grus canadensis | Sandhill Crane, Antigone canadensis.
AOU 2011 | Snowy Plover, Charadrius alexandrinus | Snowy Plover, Charadrius nivosus.
AOU 2013 | Surfbird, Aphriza virgata | Surfbird, Calidris virgata.
AOU 2013 | Ruff, Philomachus pugnax | Ruff, Calidris pugnax.
AOU 2013 | Broad-billed Sandpiper, Limicola falcinellus | Broad-billed Sandpiper, Calidris falcinellus.
AOU 2013 | Spoon-billed Sandpiper, Eurynorhynchus pygmeus | Spoon-billed Sandpiper, Calidris pygmea.
AOU 2013 | Buff-breasted Sandpiper, Tryngites subruficollis | Buff-breasted Sandpiper, Calidris subruficollis.
AOS 2017 | Blue-gray Noddy, Procelsterna cerulea | Blue-gray Noddy, Anous ceruleus.
AOU 2003 | Whiskered Tern, Chlidonias hybridus | Whiskered Tern, Chlidonias hybrida.
AOS 2018 | Tahiti Petrel, Pterodroma rostrata | Tahiti Petrel, Pseudobulweria rostrata.
AOU 2016 | Wedge-tailed Shearwater, Puffinus pacificus | Wedge-tailed Shearwater, Ardenna pacifica.
AOU 2016 | Buller's Shearwater, Puffinus bulleri | Buller's Shearwater, Ardenna bulleri.
AOU 2016 | Short-tailed Shearwater, Puffinus tenuirostris | Short-tailed Shearwater, Ardenna tenuirostris.
AOU 2016 | Sooty Shearwater, Puffinus griseus | Sooty Shearwater, Ardenna grisea.
AOU 2016 | Great Shearwater, Puffinus gravis | Great Shearwater, Ardenna gravis.
AOU 2016 | Pink-footed Shearwater, Puffinus creatopus | Pink-footed Shearwater, Ardenna creatopus.
AOU 2016 | Flesh-footed Shearwater, Puffinus carneipes | Flesh-footed Shearwater, Ardenna carneipes.
AOS 2017 | Intermediate Egret, Mesophoyx intermedia | Intermediate Egret, Ardea intermedia.
AOS 2017 | Northern Harrier, Circus cyaneus | Northern Harrier, Circus hudsonius.
AOU 2015 | Roadside Hawk, Buteo magnirostris | Roadside Hawk, Rupornis magnirostris.
AOU 2015 | White-tailed Hawk, Buteo albicaudatus | White-tailed Hawk, Geranoaetus albicaudatus.
AOS 2018 | Downy Woodpecker, Picoides pubescens | Downy Woodpecker, Dryobates pubescens.
AOS 2018 | Nuttall's Woodpecker, Picoides nuttallii | Nuttall's Woodpecker, Dryobates nuttallii.
AOS 2018 | Ladder-backed Woodpecker, Picoides scalaris | Ladder-backed Woodpecker, Dryobates scalaris.
AOS 2018 | Red-cockaded Woodpecker, Picoides borealis | Red-cockaded Woodpecker, Dryobates borealis.
AOS 2018 | Hairy Woodpecker, Picoides villosus | Hairy Woodpecker, Dryobates villosus.
AOS 2018 | White-headed Woodpecker, Picoides albolarvatus | White-headed Woodpecker, Dryobates albolarvatus.
AOS 2018 | Arizona Woodpecker, Picoides arizonae | Arizona Woodpecker, Dryobates arizonae.
AOU 2013 | Flammulated Owl, Otus flammeolus | Flammulated Owl, Psiloscops flammeolus.
AOS 2017 | Northern Shrike, Lanius excubitor | Northern Shrike, Lanius borealis.
AOU 2011 | Mexican Jay, Aphelocoma ultramarina | Mexican Jay, Aphelocoma wollweberi.
AOU 2012 | Sinaloa Wren, Thryothorus sinaloa | Sinaloa Wren, Thryophilus sinaloa.
AOS 2018 | Siberian Blue Robin, Luscinia cyane | Siberian Blue Robin, Larvivora cyane.
AOS 2018 | Rufous-tailed Robin, Luscinia sibilans | Rufous-tailed Robin, Larvivora sibilans.
AOS 2018 | Bluethroat, Luscinia svecica | Bluethroat, Cyanecula svecica.
AOS 2018 | Siberian Rubythroat, Luscinia calliope | Siberian Rubythroat, Calliope calliope.
Clements et al. 2015 | Chestnut-cheeked Starling, Sturnus phillippensis | Chestnut-cheeked Starling, Agropsar philippensis.
Clements et al. 2015 | White-cheeked Starling, Sturnus cineraceus | White-cheeked Starling, Spodiopsar cineraceus.
AOU 2013 | Gray Silky-flycatcher, Ptilogonys cinereus | Gray Silky-flycatcher, Ptiliogonys cinereus.
AOU 2012 | House Finch, Carpodacus mexicanus | House Finch, Haemorhous mexicanus.
AOU 2012 | Purple Finch, Carpodacus purpureus | Purple Finch, Haemorhous purpureus.
AOU 2012 | Cassin's Finch, Carpodacus cassinii | Cassin's Finch, Haemorhous cassinii.
AOU 2015 | American Tree Sparrow, Spizella arborea | American Tree Sparrow, Spizelloides arborea.
AOS 2018 | Baird's Sparrow, Ammodramus bairdii | Baird's Sparrow, Centronyx bairdii.
AOS 2018 | Henslow's Sparrow, Ammodramus henslowii | Henslow's Sparrow, Centronyx henslowii.
AOS 2018 | LeConte's Sparrow, Ammodramus leconteii | LeConte's Sparrow, Ammospiza leconteii.
AOS 2018 | Seaside Sparrow, Ammodramus maritima | Seaside Sparrow, Ammospiza maritima.
AOS 2018 | Nelson's Sparrow, Ammodramus nelsoni | Nelson's Sparrow, Ammospiza nelsoni.
AOS 2018 | Saltmarsh Sparrow, Ammodramus caudacuta | Saltmarsh Sparrow, Ammospiza caudacuta.
AOU 2011 | MacGillivray's Warbler, Oporornis tolmiei | MacGillivray's Warbler, Geothlypis tolmiei.
AOU 2011 | Mourning Warbler, Oporornis philadelphia | Mourning Warbler, Geothlypis philadelphia.
AOU 2011 | Kentucky Warbler, Oporornis formosus | Kentucky Warbler, Geothlypis formosa.
AOU 2011 | Elfin-woods Warbler, Dendroica angelae | Elfin-woods Warbler, Setophaga angelae.
AOU 2011 | Hooded Warbler, Wilsonia citrina | Hooded Warbler, Setophaga citrina.
AOU 2011 | Kirtland's Warbler, Dendroica kirtlandii | Kirtland's Warbler, Setophaga kirtlandii.
AOU 2011 | Cape May Warbler, Dendroica tigrina | Cape May Warbler, Setophaga tigrina.
AOU 2011 | Cerulean Warbler, Dendroica cerulea | Cerulean Warbler, Setophaga cerulea.
AOU 2011 | Northern Parula, Parula americana | Northern Parula, Setophaga americana.
AOU 2011 | Tropical Parula, Parula pitiayumi | Tropical Parula, Setophaga pitiayumi.
AOU 2011 | Magnolia Warbler, Dendroica magnolia | Magnolia Warbler, Setophaga magnolia.
AOU 2011 | Bay-breasted Warbler, Dendroica castanea | Bay-breasted Warbler, Setophaga castanea.
AOU 2011 | Blackburnian Warbler, Dendroica fusca | Blackburnian Warbler, Setophaga fusca.
AOU 2011 | Yellow Warbler, Dendroica petechia | Yellow Warbler, Setophaga petechia.
AOU 2011 | Chestnut-sided Warbler, Dendroica pensylvanica | Chestnut-sided Warbler, Setophaga pensylvanica.
AOU 2011 | Blackpoll Warbler, Dendroica striata | Blackpoll Warbler, Setophaga striata.
AOU 2011 | Black-throated Blue Warbler, Dendroica caerulescens | Black-throated Blue Warbler, Setophaga caerulescens.
AOU 2011 | Palm Warbler, Dendroica palmarum | Palm Warbler, Setophaga palmarum.
AOU 2011 | Pine Warbler, Dendroica pinus | Pine Warbler, Setophaga pinus.
AOU 2011 | Yellow-rumped Warbler, Dendroica coronata | Yellow-rumped Warbler, Setophaga coronata.
AOU 2011 | Yellow-throated Warbler, Dendroica dominica | Yellow-throated Warbler, Setophaga dominica.
AOU 2011 | Prairie Warbler, Dendroica discolor | Prairie Warbler, Setophaga discolor.
AOU 2011 | Adelaide's Warbler, Dendroica adelaidae | Adelaide's Warbler, Setophaga adelaidae.
AOU 2011 | Grace's Warbler, Dendroica graciae | Grace's Warbler, Setophaga graciae.
AOU 2011 | Black-throated Gray Warbler, Dendroica nigrescens | Black-throated Gray Warbler, Setophaga nigrescens.
AOU 2011 | Townsend's Warbler, Dendroica townsendi | Townsend's Warbler, Setophaga townsendi.
AOU 2011 | Hermit Warbler, Dendroica occidentalis | Hermit Warbler, Setophaga occidentalis.
AOU 2011 | Golden-cheeked Warbler, Dendroica chrysoparia | Golden-cheeked Warbler, Setophaga chrysoparia.
AOU 2011 | Black-throated Green Warbler, Dendroica virens | Black-throated Green Warbler, Setophaga virens.
AOU 2011 | Fan-tailed Warbler, Euthlypis lachrymosa | Fan-tailed Warbler, Basileuterus lachrymosus.
AOU 2011 | Canada Warbler, Wilsonia canadensis | Canada Warbler, Cardellina canadensis.
AOU 2011 | Wilson's Warbler, Wilsonia pusilla | Wilson's Warbler, Cardellina pusilla.
Clements et al. 2017 | Friendly Ground-Dove, Gallicolumba stairi | Shy Ground-Dove, Alopecoenas stairi.
Clements et al. 2006 | Micronesian Kingfisher, Todirhamphus cinnamominus | Guam Kingfisher, Todiramphus cinnamominus.
Clements et al. 2006, 2017 | Nightingale Reed-Warbler, Acrocephalus luscinia | Nightingale Reed Warbler, Acrocephalus luscinius.
AOU 2015 | Akiapolaau, Hemignathus munroi | `Akiapola`au, Hemignathus wilsoni.
AOU 2015 | Greater Akialoa, Hemignathus ellisianus | O`ahu `Akialoa, Akialoa ellisiana.
AOU 2015 | Hawaii Amakihi, Hemignathus virens | Hawaii `Amakihi, Chlorodrepanis virens.
AOU 2015 | Oahu Amakihi, Hemignathus flavus | O`ahu `Amakihi, Chlorodrepanis flava.
AOU 2015 | Kauai Amakihi, Hemignathus kauaiensis | Kauai `Amakihi, Chlorodrepanis stejnegeri.
AOU 2012, 2013 | Sage Sparrow, Amphispiza belli | Bell's Sparrow, Artemisiospiza belli.

How is the list of migratory birds organized?

The species are listed in two formats to suit the needs of different segments of the public: alphabetically in 50 CFR 10.13(c)(1) and taxonomically in 50 CFR 10.13(c)(2). In the alphabetical listing, species are listed by common (English) group names, with the scientific name of each species following the English group name. This format, similar to that used in modern telephone directories, is most useful to members of the lay public. In the taxonomic listing, species are listed in phylogenetic sequence by scientific name, with the English name following the scientific name. To help clarify species relationships, we also list the higher-level taxonomic categories of Order, Family, and Subfamily. This format follows the sequence adopted by the AOS (1998, 2017) and is most useful to ornithologists and other scientists.

What species are not protected by the Migratory Bird Treaty Act?

The MBTA does not apply to:

(1) Nonnative species introduced into the United States or U.S. territories by means of intentional or unintentional human assistance that belong to families or groups covered by the Canadian, Mexican, or Russian Conventions. Elsewhere in today's Federal Register, we publish a notice of availability of the draft revised list of nonnative bird species that are not protected under the MBTA. Note, though, that native species that are introduced into parts of the United States where they are not native are still protected under the MBTA regardless of where they occur in the United States or U.S. territories.

(2) Species native or nonnative to the United States or U.S. territories that either belong to families or groups not referred to in the Canada, Mexico, and Russia Conventions or are not included by species name in the Japan Convention. This includes the Tinamidae (tinamous), Megapodiidae (megapodes), Cracidae (chachalacas), Odontophoridae (New World quail), Phasianidae (grouse, ptarmigan, and turkeys), Pteroclidae (sandgrouse), Heliornithidae (finfoots), Burhinidae (thick-knees), Glareolidae (pratincoles), Todidae (todies), Psittacidae (parrots), Psittaculidae (Old World parrots), Meliphagidae (honeyeaters), Dicruridae (drongos), Monarchidae (monarchs), Pycnonotidae (bulbuls), Scotocercidae (bush warblers and allies), Zosteropidae (white-eyes), Sturnidae (starlings, except as listed in Japanese treaty), Ploceidae (weavers), Estrildidae (estrildid finches), and Passeridae (Old World sparrows, including house or English sparrow), as well as numerous other families not represented in the United States or U.S. territories.

Public Comments

Any final action resulting from this proposed rule must be based on the best scientific and commercial data available and be as accurate and as effective as possible. We request comments or information from other concerned governmental agencies, the scientific community, industry, or any other interested parties concerning this proposed rule.

Please include sufficient information with your submission (such as electronic copies of scientific journal articles or other publications, preferably in English) to allow us to verify any scientific or commercial information you include.

You may submit your comments and materials concerning this proposed rule by one of the methods listed in ADDRESSES. We request that you send comments only by the methods described in ADDRESSES.

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov, or by appointment, during normal business hours, at the U.S. Fish and Wildlife Service, Division of Migratory Bird Management (see FOR FURTHER INFORMATION CONTACT).

Required Determinations

Regulatory Planning and Review

Executive Order (E.O.) 12866 provides that the Office of Information and Regulatory Affairs (OIRA) in the Office of Management and Budget will review all significant rules. OIRA has determined that this proposed rule is not significant.

E.O. 13563 reaffirms the principles of E.O. 12866, while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this proposed rule in a manner consistent with these requirements.

Executive Order 13771—Reducing Regulation and Controlling Regulatory Costs

This proposed rule is not an Executive Order (E.O.) 13771 (82 FR 9339, February 3, 2017) regulatory action because this proposed rule is not significant under E.O. 12866.

Regulatory Flexibility Act (5 U.S.C. 601 et seq.)

Under the Regulatory Flexibility Act (5 U.S.C. 601 et seq., as amended by the Small Business Regulatory Enforcement Fairness Act (SBREFA) of 1996 (5 U.S.C. 804(2)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule does not have a significant economic impact on a substantial number of small entities.

SBREFA amended the Regulatory Flexibility Act to require Federal agencies to provide the statement of the factual basis for certifying that a rule will not have a significant economic impact on a substantial number of small entities. We have examined this proposed rule's potential effects on small entities as required by the Regulatory Flexibility Act, and have determined that, if adopted as proposed, this action would not have a significant economic impact on a substantial number of small entities. This rule is an administrative action to update the list of migratory bird species protected under the Conventions. Consequently, we certify that, if adopted as proposed, this rule would not have a significant economic impact on a substantial number of small entities; therefore, a regulatory flexibility analysis is not required.

This proposed rule is not a major rule under SBREFA (5 U.S.C. 804(2)). It would not have a significant impact on a substantial number of small entities.

a. This proposed rule would not have an annual effect on the economy of $100 million or more.

b. This proposed rule would not cause a major increase in costs or prices for consumers, individual industries, Federal, State, or local government agencies, or geographic regions.

c. This proposed rule would not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This proposed rule would not “significantly or uniquely” affect small governments. A small government agency plan is not required. This proposed rule is an administrative action to update the list of migratory bird species protected under the Conventions; it would not affect small government activities in any significant way.

b. This proposed rule would not produce a Federal mandate of $100 million or greater in any year; i.e., it is not a “significant regulatory action” under the Unfunded Mandates Reform Act.

Takings

In accordance with Executive Order 12630, this proposed rule does not have significant takings implications. This proposed rule does not contain a provision for taking of private property. Therefore, a takings implication assessment is not required.

Federalism

This proposed rule does not have sufficient Federalism effects to warrant preparation of a federalism summary impact statement under Executive Order 13132. It does not interfere with the States' ability to manage themselves or their funds. No significant economic impacts are expected to result from the updating of the list of migratory bird species.

Civil Justice Reform

In accordance with Executive Order 12988, the Office of the Solicitor has determined that this proposed rule does not unduly burden the judicial system and meets the requirements of sections 3(a) and 3(b)(2) of the Order.

Paperwork Reduction Act

This proposed rule does not contain information collection requirements, and a submission to the Office of Management and Budget (OMB) under the Paperwork Reduction Act of 1995 (44 U.S.C. 3501 et seq.) is not required. We may not conduct or sponsor and you are not required to respond to a collection of information unless it displays a currently valid OMB control number.

National Environmental Policy Act (NEPA)

Given that the proposed revision of 50 CFR 10.13 is strictly administrative in nature and will have no or minor environmental effects, it is categorically excluded from further NEPA requirements (43 CFR 46.210(i)).

Endangered Species Act (ESA)

Of the species on the List of Migratory Birds, 84 species, subspecies, or distinct population segments are also listed as endangered or threatened under section 4 of the ESA of 1973, as amended (16 U.S.C. 1531 et seq.). No legal complications arise from the dual listing as the two lists are developed under separate authorities and for different purposes. Because this proposed rule is strictly administrative in nature, it has no effect on endangered or threatened species. Thus, it does not require consultation under section 7 of the ESA.

Government-to-Government Relationship With Tribes

In accordance with the President's memorandum of April 29, 1994, “Government-to-Government Relations with Native American tribal Governments” (59 FR 22951), Executive Order 13175, and 512 DM 2, we have evaluated potential effects on federally recognized Indian tribes and have determined that there are no potential effects. The proposed revisions to existing regulations in this rule are purely administrative in nature and do not interfere with the tribes' ability to manage themselves or their funds or to regulate migratory bird activities on tribal lands.

Energy Supply, Distribution, or Use (Executive Order 13211)

On May 18, 2001, the President issued Executive Order 13211 addressing regulations that significantly affect energy supply, distribution, and use. Executive Order 13211 requires agencies to prepare Statements of Energy Effects when undertaking certain actions. Because this proposed rule would only affect the listing of protected species in the United States, it is not a significant regulatory action under Executive Order 12866, and does not significantly affect energy supplies, distribution, or use. Therefore, this action is not a significant energy action and no Statement of Energy Effects is required.

Clarity of the Proposed Rule

We are required by Executive Orders 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

References Cited

A complete list of all references cited is available on http://www.regulations.gov under Docket No. FWS-HQ-MB-2018-0047, and upon request (see FOR FURTHER INFORMATION CONTACT, above).

List of Subjects in Part 10

Exports, Fish, Imports, Law enforcement, Plants, Transportation, Wildlife.

Proposed Regulation Promulgation

For the reasons discussed in the preamble, we propose to amend title 50, chapter I, subchapter B, part 10 of the Code of Federal Regulations, as follows:

PART 10—GENERAL PROVISIONS

1. The authority citation for part 10 continues to read as follows:

Authority: 16 U.S.C. 668a-d, 703-712, 742a-j-l, 1361-1384, 1401-1407, 1531-1543, 3371-3378; 18 U.S.C. 42; 19 U.S.C. 1202.

2. Amend § 10.13 by revising paragraph (c) to read as follows:

§ 10.13 List of Migratory Birds.

* * * * *

(c) What species are protected as migratory birds? Species protected as migratory birds are listed in two formats to suit the varying needs of the user: Alphabetically in paragraph (c)(1) of this section and taxonomically in paragraph (c)(2) of this section. Taxonomy and nomenclature generally follow the 7th edition of the American Ornithologists' Union's (AOU, now recognized as American Ornithological Society (AOS)) Check-list of North American birds (1998, as amended through 2018). For species not treated by the AOS Check-list, we generally follow Clements Checklist of Birds of the World (Clements et al. 2017).

(1) Alphabetical listing. Species are listed alphabetically by common (English) group names, with the scientific name of each species following the common name.

ACCENTOR, Siberian, Prunella montanella

`AKEKE`E, Loxops caeruleirostris

`AKEPA, Hawaii, Loxops coccineus

Maui, Loxops ochraceus

O`ahu, Loxops wolstenholmei

`AKIALOA, Kauai, Akialoa stejnegeri

Maui Nui, Akialoa lanaiensis

O`ahu, Akialoa ellisiana

`AKIAPOLA`AU, Hemignathus wilsoni

`AKIKIKI, Oreomystis bairdi

`AKOHEKOHE, Palmeria dolei

`ALAUAHIO, Maui, Paroreomyza montana

O`ahu, Paroreomyza maculata

ALBATROSS, Black-browed, Thalassarche melanophris

Black-footed, Phoebastria nigripes

Chatham, Thalassarche eremita

Laysan, Phoebastria immutabilis

Light-mantled, Phoebetria palpebrata

Salvin's, Thalassarche salvini

Short-tailed, Phoebastria albatrus

Wandering, Diomedea exulans

White-capped, Thalassarche cauta

Yellow-nosed, Thalassarche chlororhynchos

`AMAKIHI, Hawaii, Chlorodrepanis virens

Kauai, Chlorodrepanis stejnegeri

O`ahu, Chlorodrepanis flava

ANHINGA, Anhinga anhinga

ANI, Groove-billed, Crotophaga sulcirostris

Smooth-billed, Crotophaga ani

`ANIANIAU, Magumma parva

`APAPANE, Himatione sanguinea

AUKLET, Cassin's, Ptychoramphus aleuticus

Crested, Aethia cristatella

Least, Aethia pusilla

Parakeet, Aethia psittacula

Rhinoceros, Cerorhinca monocerata

Whiskered, Aethia pygmaea

AVOCET, American, Recurvirostra americana

BANANAQUIT, Coereba flaveola

BEAN-GOOSE, Taiga, Anser fabalis

Tundra, Anser serrirostris

BEARDLESS-TYRANNULET, Northern, Camptostoma imberbe

BECARD, Gray-collared, Pachyramphus major

Rose-throated, Pachyramphus aglaiae

BITTERN, American, Botaurus lentiginosus

Black, Ixobrychus flavicollis

Least, Ixobrychus exilis

Schrenck's, Ixobrychus eurhythmus

Yellow, Ixobrychus sinensis

BLACKBIRD, Brewer's, Euphagus cyanocephalus

Red-winged, Agelaius phoeniceus

Rusty, Euphagus carolinus

Tawny-shouldered, Agelaius humeralis

Tricolored, Agelaius tricolor

Yellow-headed, Xanthocephalus xanthocephalus

Yellow-shouldered, Agelaius xanthomus

BLUEBIRD, Eastern, Sialia sialis

Mountain, Sialia currucoides

Western, Sialia mexicana

BLUETAIL, Red-flanked, Tarsiger cyanurus

BLUETHROAT, Cyanecula svecica

BOBOLINK, Dolichonyx oryzivorus

BOOBOOK, Northern, Ninox japonica

BOOBY, Abbott's, Papasula abbotti

Blue-footed, Sula nebouxii

Brown, Sula leucogaster

Masked, Sula dactylatra

Nazca, Sula granti

Red-footed, Sula sula

BRAMBLING, Fringilla montifringilla

BRANT, Branta bernicla

BUFFLEHEAD, Bucephala albeola

BULLFINCH, Eurasian, Pyrrhula pyrrhula

Puerto Rican, Melopyrrha portoricensis

BUNTING, Blue, Cyanocompsa parellina

Gray, Emberiza variabilis

Indigo, Passerina cyanea

Lark, Calamospiza melanocorys

Lazuli, Passerina amoena

Little, Emberiza pusilla

McKay's, Plectrophenax hyperboreus

Painted, Passerina ciris

Pallas's, Emberiza pallasi

Pine, Emberiza leucocephalos

Reed, Emberiza schoeniclus

Rustic, Emberiza rustica

Snow, Plectrophenax nivalis

Varied, Passerina versicolor

Yellow-breasted, Emberiza aureola

Yellow-browed, Emberiza chrysophrys

Yellow-throated, Emberiza elegans

BUSHTIT, Psaltriparus minimus

BUZZARD, Gray-faced, Butastur indicus

CANVASBACK, Aythya valisineria

CARACARA, Crested, Caracara cheriway

CARDINAL, Northern, Cardinalis cardinalis

CARIB, Green-throated, Eulampis holosericeus

Purple-throated, Eulampis jugularis

CATBIRD, Black, Melanoptila glabrirostris

Gray, Dumetella carolinensis

CHAFFINCH, Common, Fringilla coelebs

CHAT, Yellow-breasted, Icteria virens

CHICKADEE, Black-capped, Poecile atricapillus

Boreal, Poecile hudsonicus

Carolina, Poecile carolinensis

Chestnut-backed, Poecile rufescens

Gray-headed, Poecile cinctus

Mexican, Poecile sclateri

Mountain, Poecile gambeli

CHIFFCHAFF, Common, Phylloscopus collybita

CHUCK-WILL'S-WIDOW, Antrostomus carolinensis

CONDOR, California, Gymnogyps californianus

COOT, American, Fulica americana

Eurasian, Fulica atra

Hawaiian, Fulica alai

CORMORANT, Brandt's, Phalacrocorax penicillatus

Double-crested, Phalacrocorax auritus

Great, Phalacrocorax carbo

Little Pied, Phalacrocorax melanoleucos

Neotropic, Phalacrocorax brasilianus

Pelagic, Phalacrocorax pelagicus

Red-faced, Phalacrocorax urile

COWBIRD, Bronzed, Molothrus aeneus

Brown-headed, Molothrus ater

Shiny, Molothrus bonariensis

CRAKE, Corn, Crex crex

Paint-billed, Neocrex erythrops

Spotless, Porzana tabuensis

Yellow-breasted, Hapalocrex flaviventer

CRANE, Common, Grus grus

Sandhill, Antigone canadensis

Whooping, Grus americana

CREEPER, Brown, Certhia americana

Hawaii, Loxops mana

CROSSBILL, Cassia, Loxia sinesciuris

Red, Loxia curvirostra

White-winged, Loxia leucoptera

CROW, American, Corvus brachyrhynchos

Fish, Corvus ossifragus

Hawaiian, Corvus hawaiiensis

Mariana, Corvus kubaryi

Northwestern, Corvus caurinus

Tamaulipas, Corvus imparatus

White-necked, Corvus leucognaphalus

CUCKOO, Black-billed, Coccyzus erythropthalmus

Common, Cuculus canorus

Mangrove, Coccyzus minor

Oriental, Cuculus optatus

Yellow-billed, Coccyzus americanus

CURLEW, Bristle-thighed, Numenius tahitiensis

Eskimo, Numenius borealis

Eurasian, Numenius arquata

Far Eastern, Numenius madagascariensis

Little, Numenius minutus

Long-billed, Numenius americanus

DICKCISSEL, Spiza americana

DIPPER, American, Cinclus mexicanus

DOTTEREL, Eurasian, Charadrius morinellus

DOVE, Inca, Columbina inca

Mourning, Zenaida macroura

White-tipped, Leptotila verreauxi

White-winged, Zenaida asiatica

Zenaida, Zenaida aurita

DOVEKIE, Alle alle

DOWITCHER, Long-billed, Limnodromus scolopaceus

Short-billed, Limnodromus griseus

DUCK, American Black, Anas rubripes

Eastern Spot-billed, Anas zonorhyncha

Falcated, Mareca falcata

Harlequin, Histrionicus histrionicus

Hawaiian, Anas wyvilliana

Laysan, Anas laysanensis

Long-tailed, Clangula hyemalis

Masked, Nomonyx dominicus

Mottled, Anas fulvigula

Muscovy, Cairina moschata

Pacific Black, Anas superciliosa

Ring-necked, Aythya collaris

Ruddy, Oxyura jamaicensis

Tufted, Aythya fuligula

Wood, Aix sponsa

DUNLIN, Calidris alpina

EAGLE, Bald, Haliaeetus leucocephalus

Golden, Aquila chrysaetos

White-tailed, Haliaeetus albicilla

EGRET, Cattle, Bubulcus ibis

Chinese, Egretta eulophotes

Great, Ardea alba

Intermediate, Ardea intermedia

Little, Egretta garzetta

Reddish, Egretta rufescens

Snowy, Egretta thula

EIDER, Common, Somateria mollissima

King, Somateria spectabilis

Spectacled, Somateria fischeri

Steller's, Polysticta stelleri

ELAENIA, Caribbean, Elaenia martinica

Greenish, Myiopagis viridicata

White-crested, Elaenia albiceps

EMERALD, Puerto Rican, Chlorostilbon maugaeus

EUPHONIA, Antillean, Euphonia musica

FALCON, Amur, Falco amurensis

Aplomado, Falco femoralis

Peregrine, Falco peregrinus

Prairie, Falco mexicanus

Red-footed, Falco vespertinus

FIELDFARE, Turdus pilaris

FINCH, Cassin's, Haemorhous cassinii

House, Haemorhous mexicanus

Laysan, Telespiza cantans

Nihoa, Telespiza ultima

Purple, Haemorhous purpureus

FLAMINGO, American, Phoenicopterus ruber

FLICKER, Gilded, Colaptes chrysoides

Northern, Colaptes auratus

FLYCATCHER, Acadian, Empidonax virescens

Alder, Empidonax alnorum

Ash-throated, Myiarchus cinerascens

Asian Brown, Muscicapa dauurica

Brown-crested, Myiarchus tyrannulus

Buff-breasted, Empidonax fulvifrons

Cordilleran, Empidonax occidentalis

Crowned Slaty, Empidonomus aurantioatrocristatus

Dark-sided, Muscicapa sibirica

Dusky, Empidonax oberholseri

Dusky-capped, Myiarchus tuberculifer

Fork-tailed, Tyrannus savana

Gray, Empidonax wrightii

Gray-streaked, Muscicapa griseisticta

Great Crested, Myiarchus crinitus

Hammond's, Empidonax hammondii

La Sagra's, Myiarchus sagrae

Least, Empidonax minimus

Mugimaki, Ficedula mugimaki

Narcissus, Ficedula narcissina

Nutting's, Myiarchus nuttingi

Olive-sided, Contopus cooperi

Pacific-slope, Empidonax difficilis

Pine, Empidonax affinis

Piratic, Legatus leucophaius

Puerto Rican, Myiarchus antillarum

Scissor-tailed, Tyrannus forficatus

Social, Myiozetetes similis

Spotted, Muscicapa striata

Sulphur-bellied, Myiodynastes luteiventris

Taiga, Ficedula albicilla

Tufted, Mitrephanes phaeocercus

Variegated, Empidonomus varius

Vermilion, Pyrocephalus rubinus

Willow, Empidonax traillii

Yellow-bellied, Empidonax flaviventris

FOREST-FALCON, Collared, Micrastur semitorquatus

FRIGATEBIRD, Great, Fregata minor

Lesser, Fregata ariel

Magnificent, Fregata magnificens

FRUIT-DOVE, Crimson-crowned, Ptilinopus porphyraceus

Many-colored, Ptilinopus perousii

Mariana, Ptilinopus roseicapilla

FULMAR, Northern, Fulmarus glacialis

GADWALL, Mareca strepera

GALLINULE, Azure, Porphyrio flavirostris

Common, Gallinula galeata

Purple, Porphyrio martinicus

GANNET, Northern, Morus bassanus

GARGANEY, Spatula querquedula

GNATCATCHER, Black-capped, Polioptila nigriceps

Black-tailed, Polioptila melanura

Blue-Gray, Polioptila caerulea

California, Polioptila californica

GODWIT, Bar-tailed, Limosa lapponica

Black-tailed, Limosa limosa

Hudsonian, Limosa haemastica

Marbled, Limosa fedoa

GOLDENEYE, Barrow's, Bucephala islandica

Common, Bucephala clangula

GOLDEN-PLOVER, American, Pluvialis dominica

European, Pluvialis apricaria

Pacific, Pluvialis fulva

GOLDFINCH, American, Spinus tristis

Lawrence's, Spinus lawrencei

Lesser, Spinus psaltria

GOOSE, Barnacle, Branta leucopsis

Cackling, Branta hutchinsii

Canada, Branta canadensis

Emperor, Anser canagicus

Greater White-fronted, Anser albifrons

Hawaiian, Branta sandvicensis

Lesser White-fronted, Anser erythropus

Pink-footed, Anser brachyrhynchus

Ross's, Anser rossii

Snow, Anser caerulescens

GOSHAWK, Northern, Accipiter gentilis

GRACKLE, Boat-tailed, Quiscalus major

Common, Quiscalus quiscula

Greater Antillean, Quiscalus niger

Great-tailed, Quiscalus mexicanus

GRASSHOPPER-WARBLER, Middendorff's, Locustella ochotensis

GRASSQUIT, Black-faced, Tiaris bicolor

Yellow-faced, Tiaris olivaceus

GREBE, Clark's, Aechmophorus clarkii

Eared, Podiceps nigricollis

Horned, Podiceps auritus

Least, Tachybaptus dominicus

Pied-billed, Podilymbus podiceps

Red-necked, Podiceps grisegena

Western, Aechmophorus occidentalis

GREENFINCH, Oriental, Chloris sinica

GREENSHANK, Common, Tringa nebularia

Nordmann's, Tringa guttifer

GROSBEAK, Black-headed, Pheucticus melanocephalus

Blue, Passerina caerulea

Crimson-collared, Rhodothraupis celaeno

Evening, Coccothraustes vespertinus

Pine, Pinicola enucleator

Rose-breasted, Pheucticus ludovicianus

Yellow, Pheucticus chrysopeplus

GROUND-DOVE, Common, Columbina passerina

Ruddy, Columbina talpacoti

Shy, Alopecoenas stairi

White-throated, Alopecoenas xanthonura

GUILLEMOT, Black, Cepphus grylle

Pigeon, Cepphus columba

GULL, Belcher's, Larus belcheri

Black-headed, Chroicocephalus ridibundus

Black-tailed, Larus crassirostris

Bonaparte's, Chroicocephalus philadelphia

California, Larus californicus

Franklin's, Leucophaeus pipixcan

Glaucous, Larus hyperboreus

Glaucous-winged, Larus glaucescens

Gray-hooded, Chroicocephalus cirrocephalus

Great Black-backed, Larus marinus

Heermann's, Larus heermanni

Herring, Larus argentatus

Iceland, Larus glaucoides

Ivory, Pagophila eburnea

Kelp, Larus dominicanus

Laughing, Leucophaeus atricilla

Lesser Black-backed, Larus fuscus

Little, Hydrocoloeus minutus

Mew, Larus canus

Ring-billed, Larus delawarensis

Ross's, Rhodostethia rosea

Sabine's, Xema sabini

Slaty-backed, Larus schistisagus

Swallow-tailed, Creagrus furcatus

Western, Larus occidentalis

Yellow-footed, Larus livens

Yellow-legged, Larus michahellis

GYRFALCON, Falco rusticolus

HARRIER, Northern, Circus hudsonius

HAWFINCH, Coccothraustes coccothraustes

HAWK, Broad-winged, Buteo platypterus

Common Black, Buteogallus anthracinus

Cooper's, Accipiter cooperii

Crane, Geranospiza caerulescens

Ferruginous, Buteo regalis

Gray, Buteo plagiatus

Harris's, Parabuteo unicinctus

Hawaiian, Buteo solitarius

Red-shouldered, Buteo lineatus

Red-tailed, Buteo jamaicensis

Roadside, Rupornis magnirostris

Rough-legged, Buteo lagopus

Sharp-shinned, Accipiter striatus

Short-tailed, Buteo brachyurus

Swainson's, Buteo swainsoni

White-tailed, Geranoaetus albicaudatus

Zone-tailed, Buteo albonotatus

HAWK-CUCKOO, Hodgson's, Hierococcyx nisicolor

HERON, Gray, Ardea cinerea

Great Blue, Ardea herodias

Green, Butorides virescens

Little Blue, Egretta caerulea

Tricolored, Egretta tricolor

HOBBY, Eurasian, Falco subbuteo

HONEYCREEPER, Laysan, Himatione fraithii

Red-legged, Cyanerpes cyaneus

HOOPOE, Eurasian, Upupa epops

HOUSE-MARTIN, Common, Delichon urbicum

HUMMINGBIRD, Allen's, Selasphorus sasin

Amethyst-throated, Lampornis amethystinus

Anna's, Calypte anna

Antillean Crested, Orthorhyncus cristatus

Berylline, Amazilia beryllina

Black-chinned, Archilochus alexandri

Blue-throated, Lampornis clemenciae

Broad-billed, Cynanthus latirostris

Broad-tailed, Selasphorus platycercus

Buff-bellied, Amazilia yucatanensis

Bumblebee, Atthis heloisa

Calliope, Selasphorus calliope

Cinnamon, Amazilia rutila

Costa's, Calypte costae

Lucifer, Calothorax lucifer

Rivoli's, Eugenes fulgens

Ruby-throated, Archilochus colubris

Rufous, Selasphorus rufus

Vervain, Mellisuga minima

Violet-crowned, Amazilia violiceps

White-eared, Hylocharis leucotis

Xantus's, Hylocharis xantusii

IBIS, Glossy, Plegadis falcinellus

Scarlet, Eudocimus ruber

White, Eudocimus albus

White-faced, Plegadis chihi

`I`IWI, Drepanis coccinea

IMPERIAL-PIGEON, Pacific, Ducula pacifica

JABIRU, Jabiru mycteria

JACANA, Northern, Jacana spinosa

JACKDAW, Eurasian, Corvus monedula

JAEGER, Long-tailed, Stercorarius longicaudus

Parasitic, Stercorarius parasiticus

Pomarine, Stercorarius pomarinus

JAY, Blue, Cyanocitta cristata

Brown, Psilorhinus morio

Canada, Perisoreus canadensis

Green, Cyanocorax yncas

Mexican, Aphelocoma wollweberi

Pinyon, Gymnorhinus cyanocephalus

Steller's, Cyanocitta stelleri

JUNCO, Dark-eyed, Junco hyemalis

Yellow-eyed, Junco phaeonotus

KĀKĀWAHIE, Paroreomyza flammea

KĀMA`O, Myadestes myadestinus

KESTREL, American, Falco sparverius

Eurasian, Falco tinnunculus

KILLDEER, Charadrius vociferus

KINGBIRD, Cassin's, Tyrannus vociferans

Couch's, Tyrannus couchii

Eastern, Tyrannus tyrannus

Gray, Tyrannus dominicensis

Loggerhead, Tyrannus caudifasciatus

Thick-billed, Tyrannus crassirostris

Tropical, Tyrannus melancholicus

Western, Tyrannus verticalis

KINGFISHER, Amazon, Chloroceryle amazona

Belted, Megaceryle alcyon

Common, Alcedo atthis

Green, Chloroceryle americana

Guam, Todiramphus cinnamominus

Mariana, Todiramphus albicilla

Pacific, Todiramphus sacer

Ringed, Megaceryle torquata

KINGLET, Golden-crowned, Regulus satrapa

Ruby-crowned, Regulus calendula

KISKADEE, Great, Pitangus sulphuratus

KITE, Black, Milvus migrans

Double-toothed, Harpagus bidentatus

Hook-billed, Chondrohierax uncinatus

Mississippi, Ictinia mississippiensis

Snail, Rostrhamus sociabilis

Swallow-tailed, Elanoides forficatus

White-tailed, Elanus leucurus

KITTIWAKE, Black-legged, Rissa tridactyla

Red-legged, Rissa brevirostris

KNOT, Great, Calidris tenuirostris

Red, Calidris canutus

KOEL, Long-tailed, Urodynamis taitensis

LAPWING, Northern, Vanellus vanellus

LARK, Horned, Eremophila alpestris

LIMPKIN, Aramus guarauna

LIZARD-CUCKOO, Puerto Rican, Coccyzus vieilloti

LONGSPUR, Chestnut-collared, Calcarius ornatus

Lapland, Calcarius lapponicus

McCown's, Rhynchophanes mccownii

Smith's, Calcarius pictus

LOON, Arctic, Gavia arctica

Common, Gavia immer

Pacific, Gavia pacifica

Red-throated, Gavia stellata

Yellow-billed, Gavia adamsii

MAGPIE, Black-billed, Pica hudsonia

Yellow-billed, Pica nuttalli

MALLARD, Anas platyrhynchos

MANGO, Antillean, Anthracothorax dominicus

Green, Anthracothorax viridis

Green-breasted, Anthracothorax prevostii

MARSH-HARRIER, Eastern, Circus spilonotus

MARTIN, Brown-chested, Progne tapera

Caribbean, Progne dominicensis

Cuban, Progne cryptoleuca

Gray-breasted, Progne chalybea

Purple, Progne subis

Southern, Progne elegans

MEADOWLARK, Eastern, Sturnella magna

Western, Sturnella neglecta

MERGANSER, Common, Mergus merganser

Hooded, Lophodytes cucullatus

Red-breasted, Mergus serrator

MERLIN, Falco columbarius

MILLERBIRD, Acrocephalus familiaris

MOCKINGBIRD, Bahama, Mimus gundlachii

Blue, Melanotis caerulescens

Northern, Mimus polyglottos

MOORHEN, Common, Gallinula chloropus

MURRE, Common, Uria aalge

Thick-billed, Uria lomvia

MURRELET, Ancient, Synthliboramphus antiquus

Craveri's, Synthliboramphus craveri

Guadalupe, Synthliboramphus hypoleucus

Kittlitz's, Brachyramphus brevirostris

Long-billed, Brachyramphus perdix

Marbled, Brachyramphus marmoratus

Scripps's, Synthliboramphus scrippsi

NEEDLETAIL, White-throated, Hirundapus caudacutus

NIGHTHAWK, Antillean, Chordeiles gundlachii

Common, Chordeiles minor

Lesser, Chordeiles acutipennis

NIGHT-HERON, Black-crowned, Nycticorax nycticorax

Japanese, Gorsachius goisagi

Malayan, Gorsachius melanolophus

Rufous, Nycticorax caledonicus

Yellow-crowned, Nyctanassa violacea

NIGHTINGALE-THRUSH, Black-headed, Catharus mexicanus

Orange-billed, Catharus aurantiirostris

NIGHTJAR, Buff-collared, Antrostomus ridgwayi

Gray, Caprimulgus jotaka

Puerto Rican, Antrostomus noctitherus

White-tailed, Hydropsalis cayennensis

NODDY, Black, Anous minutus

Blue-gray, Anous ceruleus

Brown, Anous stolidus

NUKUPU`U, Kauai, Hemignathus hanapepe

Maui, Hemignathus affinis

O`ahu, Hemignathus lucidus

NUTCRACKER, Clark's, Nucifraga columbiana

NUTHATCH, Brown-headed, Sitta pusilla

Pygmy, Sitta pygmaea

Red-breasted, Sitta canadensis

White-breasted, Sitta carolinensis

OLOMA`O, Myadestes lanaiensis

`ÕMA'O, Myadestes obscurus

ORIOLE, Altamira, Icterus gularis

Audubon's, Icterus graduacauda

Baltimore, Icterus galbula

Black-vented, Icterus wagleri

Bullock's, Icterus bullockii

Hooded, Icterus cucullatus

Orchard, Icterus spurius

Puerto Rican, Icterus portoricensis

Scott's, Icterus parisorum

Streak-backed, Icterus pustulatus

OSPREY, Pandion haliaetus

`Õ`Ũ, Psittirostra psittacea

OVENBIRD, Seiurus aurocapilla

OWL, Barn, Tyto alba

Barred, Strix varia

Boreal, Aegolius funereus

Burrowing, Athene cunicularia

Elf, Micrathene whitneyi

Flammulated, Psiloscops flammeolus

Great Gray, Strix nebulosa

Great Horned, Bubo virginianus

Long-eared, Asio otus

Mottled, Ciccaba virgata

Northern Hawk, Surnia ulula

Northern Saw-whet, Aegolius acadicus

Short-eared, Asio flammeus

Snowy, Bubo scandiacus

Spotted, Strix occidentalis

Stygian, Asio stygius

OYSTERCATCHER, American, Haematopus palliatus

Black, Haematopus bachmani

Eurasian, Haematopus ostralegus

PALILA, Loxioides bailleui

PALM-SWIFT, Antillean, Tachornis phoenicobia

PARROTBILL, Maui, Pseudonestor xanthophrys

PARULA, Northern, Setophaga americana

Tropical, Setophaga pitiayumi

PAURAQUE, Common, Nyctidromus albicollis

PELICAN, American White, Pelecanus erythrorhynchos

Brown, Pelecanus occidentalis

PETREL, Bermuda, Pterodroma cahow

Black-capped, Pterodroma hasitata

Black-winged, Pterodroma nigripennis

Bonin, Pterodroma hypoleuca

Bulwer's, Bulweria bulwerii

Cook's, Pterodroma cookii

Fea's, Pterodroma feae

Gould's, Pterodroma leucoptera

Great-winged, Pterodroma macroptera

Hawaiian, Pterodroma sandwichensis

Herald, Pterodroma heraldica

Jouanin's, Bulweria fallax

Juan Fernandez, Pterodroma externa

Kermadec, Pterodroma neglecta

Mottled, Pterodroma inexpectata

Murphy's, Pterodroma ultima

Parkinson's, Procellaria parkinsoni

Phoenix, Pterodroma alba

Providence, Pterodroma solandri

Stejneger's, Pterodroma longirostris

Tahiti, Pseudobulweria rostrata

Trindade, Pterodroma arminjoniana

White-chinned, Procellaria aequinoctialis

White-necked, Pterodroma cervicalis

Zino's, Pterodroma madeira

PEWEE, Cuban, Contopus caribaeus

Greater, Contopus pertinax

Hispaniolan, Contopus hispaniolensis

Lesser Antillean, Contopus latirostris

PHAINOPEPLA, Phainopepla nitens

PHALAROPE, Red, Phalaropus fulicarius

Red-necked, Phalaropus lobatus

Wilson's, Phalaropus tricolor

PHOEBE, Black, Sayornis nigricans

Eastern, Sayornis phoebe

Say's, Sayornis saya

PIGEON, Band-tailed, Patagioenas fasciata

Plain, Patagioenas inornata

Red-billed, Patagioenas flavirostris

Scaly-naped, Patagioenas squamosa

White-crowned, Patagioenas leucocephala

PINTAIL, Northern, Anas acuta

White-cheeked, Anas bahamensis

PIPIT, American, Anthus rubescens

Olive-backed, Anthus hodgsoni

Pechora, Anthus gustavi

Red-throated, Anthus cervinus

Sprague's, Anthus spragueii

Tree, Anthus trivialis

PLOVER, Black-bellied, Pluvialis squatarola

Collared, Charadrius collaris

Common Ringed, Charadrius hiaticula

Kentish, Charadrius alexandrinus

Little Ringed, Charadrius dubius

Mountain, Charadrius montanus

Piping, Charadrius melodus

Semipalmated, Charadrius semipalmatus

Snowy, Charadrius nivosus

Wilson's, Charadrius wilsonia

POCHARD, Baer's, Aythya baeri

Common, Aythya ferina

POND-HERON, Chinese, Ardeola bacchus

POORWILL, Common, Phalaenoptilus nuttallii

PO`OULI, Melamprosops phaeosoma

PUAIOHI, Myadestes palmeri

PUFFIN, Atlantic, Fratercula arctica

Horned, Fratercula corniculata

Tufted, Fratercula cirrhata

PYGMY-OWL, Ferruginous, Glaucidium brasilianum

Northern, Glaucidium gnoma

PYRRHULOXIA, Cardinalis sinuatus

QUAIL-DOVE, Bridled, Geotrygon mystacea

Key West, Geotrygon chrysia

Ruddy, Geotrygon montana

QUETZAL, Eared, Euptilotis neoxenus

RAIL, Black, Laterallus jamaicensis

Buff-banded, Gallirallus philippensis

Clapper, Rallus crepitans

Guam, Gallirallus owstoni

King, Rallus elegans

Ridgway's, Rallus obsoletus

Spotted, Pardirallus maculatus

Virginia, Rallus limicola

Yellow, Coturnicops noveboracensis

RAVEN, Chihuahuan, Corvus cryptoleucus

Common, Corvus corax

RAZORBILL, Alca torda

REDHEAD, Aythya americana

REDPOLL, Common, Acanthis flammea

Hoary, Acanthis hornemanni

REDSHANK, Common, Tringa totanus

Spotted, Tringa erythropus

REDSTART, American, Setophaga ruticilla

Common, Phoenicurus phoenicurus

Painted, Myioborus pictus

Slate-throated, Myioborus miniatus

REDWING, Turdus iliacus

REEF-HERON, Pacific, Egretta sacra

Western, Egretta gularis

ROADRUNNER, Greater, Geococcyx californianus

ROBIN, American, Turdus migratorius

Rufous-backed, Turdus rufopalliatus

Rufous-tailed, Larvivora sibilans

Siberian Blue, Larvivora cyane

ROCK-THRUSH, Blue, Monticola solitarius

ROSEFINCH, Common, Carpodacus erythrinus

ROSY-FINCH, Asian, Leucosticte arctoa

Black, Leucosticte atrata

Brown-capped, Leucosticte australis

Gray-crowned, Leucosticte tephrocotis

RUBYTHROAT, Siberian, Calliope calliope

RUFF, Calidris pugnax

SANDERLING, Calidris alba

SANDPIPER, Baird's, Calidris bairdii

Broad-billed, Calidris falcinellus

Buff-breasted, Calidris subruficollis

Common, Actitis hypoleucos

Curlew, Calidris ferruginea

Green, Tringa ochropus

Least, Calidris minutilla

Marsh, Tringa stagnatilis

Pectoral, Calidris melanotos

Purple, Calidris maritima

Rock, Calidris ptilocnemis

Semipalmated, Calidris pusilla

Sharp-tailed, Calidris acuminata

Solitary, Tringa solitaria

Spoon-billed, Calidris pygmea

Spotted, Actitis macularius

Stilt, Calidris himantopus

Terek, Xenus cinereus

Upland, Bartramia longicauda

Western, Calidris mauri

White-rumped, Calidris fuscicollis

Wood, Tringa glareola

SAND-PLOVER, Greater, Charadrius leschenaultii

Lesser, Charadrius mongolus

SAPSUCKER, Red-breasted, Sphyrapicus ruber

Red-naped, Sphyrapicus nuchalis

Williamson's, Sphyrapicus thyroideus

Yellow-bellied, Sphyrapicus varius

SCAUP, Greater, Aythya marila

Lesser, Aythya affinis

SCOPS-OWL, Oriental, Otus sunia

SCOTER, Black, Melanitta americana

Common, Melanitta nigra

Surf, Melanitta perspicillata

White-winged, Melanitta fusca

SCREECH-OWL, Eastern, Megascops asio

Puerto Rican, Megascops nudipes

Western, Megascops kennicottii

Whiskered, Megascops trichopsis

SCRUB-JAY, California, Aphelocoma californica

Florida, Aphelocoma coerulescens

Island, Aphelocoma insularis

Woodhouse's, Aphelocoma woodhouseii

SEA-EAGLE, Steller's, Haliaeetus pelagicus

SEEDEATER, Morelet's, Sporophila morelleti

SHEARWATER, Audubon's, Puffinus lherminieri

Barolo, Puffinus baroli

Black-vented, Puffinus opisthomelas

Bryan's, Puffinus bryani

Buller's, Ardenna bulleri

Cape Verde, Calonectris edwardsii

Christmas, Puffinus nativitatis

Cory's, Calonectris diomedea

Flesh-footed, Ardenna carneipes

Great, Ardenna gravis

Manx, Puffinus puffinus

Newell's, Puffinus newelli

Pink-footed, Ardenna creatopus

Short-tailed, Ardenna tenuirostris

Sooty, Ardenna grisea

Streaked, Calonectris leucomelas

Wedge-tailed, Ardenna pacifica

SHOVELER, Northern, Spatula clypeata

SHRIKE, Brown, Lanius cristatus

Loggerhead, Lanius ludovicianus

Northern, Lanius borealis

SILKY-FLYCATCHER, Gray, Ptiliogonys cinereus

SISKIN, Eurasian, Spinus spinus

Pine, Spinus pinus

SKIMMER, Black, Rynchops niger

SKUA, Great, Stercorarius skua

South Polar, Stercorarius maccormicki

SKYLARK, Eurasian, Alauda arvensis

SMEW, Mergellus albellus

SNIPE, Common, Gallinago gallinago

Jack, Lymnocryptes minimus

Pin-tailed, Gallinago stenura

Solitary, Gallinago solitaria

Swinhoe's, Gallinago megala

Wilson's, Gallinago delicata

SOLITAIRE, Brown-backed, Myadestes occidentalis

Townsend's, Myadestes townsendi

SORA, Porzana carolina

SPARROW, American Tree, Spizelloides arborea

Bachman's, Peucaea aestivalis

Baird's, Centronyx bairdii

Bell's, Artemisiospiza belli

Black-chinned, Spizella atrogularis

Black-throated, Amphispiza bilineata

Botteri's, Peucaea botterii

Brewer's, Spizella breweri

Cassin's, Peucaea cassinii

Chipping, Spizella passerina

Clay-colored, Spizella pallida

Field, Spizella pusilla

Five-striped, Amphispiza quinquestriata

Fox, Passerella iliaca

Golden-crowned, Zonotrichia atricapilla

Grasshopper, Ammodramus savannarum

Harris's, Zonotrichia querula

Henslow's, Centronyx henslowii

Lark, Chondestes grammacus

LeConte's, Ammospiza leconteii

Lincoln's, Melospiza lincolnii

Nelson's, Ammospiza nelsoni

Olive, Arremonops rufivirgatus

Rufous-crowned, Aimophila ruficeps

Rufous-winged, Peucaea carpalis

Sagebrush, Artemisiospiza nevadensis

Saltmarsh, Ammospiza caudacuta

Savannah, Passerculus sandwichensis

Seaside, Ammospiza maritima

Song, Melospiza melodia

Swamp, Melospiza georgiana

Vesper, Pooecetes gramineus

White-crowned, Zonotrichia leucophrys

White-throated, Zonotrichia albicollis

Worthen's, Spizella wortheni

SPARROWHAWK, Chinese, Accipiter soloensis

Japanese, Accipiter gularis

SPINDALIS, Puerto Rican, Spindalis portoricensis

Western, Spindalis zena

SPOONBILL, Roseate, Platalea ajaja

STARLING, Chestnut-cheeked, Agropsar philippensis

White-cheeked, Spodiopsar cineraceus

STARTHROAT, Plain-capped, Heliomaster constantii

STILT, Black-necked, Himantopus mexicanus

Black-winged, Himantopus himantopus

STINT, Little, Calidris minuta

Long-toed, Calidris subminuta

Red-necked, Calidris ruficollis

Temminck's, Calidris temminckii

STONECHAT, Saxicola torquatus

STORK, Wood, Mycteria americana

STORM-PETREL, Ashy, Oceanodroma homochroa

Band-rumped, Oceanodroma castro

Black, Oceanodroma melania

Black-bellied, Fregetta tropica

Fork-tailed, Oceanodroma furcata

Leach's, Oceanodroma leucorhoa

Least, Oceanodroma microsoma

Matsudaira's, Oceanodroma matsudairae

Polynesian, Nesofregetta fuliginosa

Ringed, Oceanodroma hornbyi

Swinhoe's, Oceanodroma monorhis

Townsend's, Oceanodroma socorroensis

Tristram's, Oceanodroma tristrami

Wedge-rumped, Oceanodroma tethys

White-bellied, Fregetta grallaria

White-faced, Pelagodroma marina

Wilson's, Oceanites oceanicus

SURFBIRD, Calidris virgata

SWALLOW, Bahama, Tachycineta cyaneoviridis

Bank, Riparia riparia

Barn, Hirundo rustica

Cave, Petrochelidon fulva

Cliff, Petrochelidon pyrrhonota

Mangrove, Tachycineta albilinea

Northern Rough-winged, Stelgidopteryx serripennis

Tree, Tachycineta bicolor

Violet-green, Tachycineta thalassina

SWAMPHEN, Purple, Porphyrio porphyrio

SWAN, Trumpeter, Cygnus buccinator

Tundra, Cygnus columbianus

Whooper, Cygnus cygnus

SWIFT, Alpine, Apus melba

Black, Cypseloides niger

Chimney, Chaetura pelagica

Common, Apus apus

Fork-tailed, Apus pacificus

Short-tailed, Chaetura brachyura

Vaux's, Chaetura vauxi

White-collared, Streptoprocne zonaris

White-throated, Aeronautes saxatalis

SWIFTLET, Mariana, Aerodramus bartschi

White-rumped, Aerodramus spodiopygius

TANAGER, Flame-colored, Piranga bidentata

Hepatic, Piranga flava

Puerto Rican, Nesospingus speculiferus

Scarlet, Piranga olivacea

Summer, Piranga rubra

Western, Piranga ludoviciana

TATTLER, Gray-tailed, Tringa brevipes

Wandering, Tringa incana

TEAL, Baikal, Sibirionetta formosa

Blue-winged, Spatula discors

Cinnamon, Spatula cyanoptera

Green-winged, Anas crecca

TERN, Aleutian, Onychoprion aleuticus

Arctic, Sterna paradisaea

Black, Chlidonias niger

Black-naped, Sterna sumatrana

Bridled, Onychoprion anaethetus

Caspian, Hydroprogne caspia

Common, Sterna hirundo

Elegant, Thalasseus elegans

Forster's, Sterna forsteri

Gray-backed, Onychoprion lunatus

Great Crested, Thalasseus bergii

Gull-billed, Gelochelidon nilotica

Large-billed, Phaetusa simplex

Least, Sternula antillarum

Little, Sternula albifrons

Roseate, Sterna dougallii

Royal, Thalasseus maximus

Sandwich, Thalasseus sandvicensis

Sooty, Onychoprion fuscatus

Whiskered, Chlidonias hybrida

White, Gygis alba

White-winged, Chlidonias leucopterus

THRASHER, Bendire's, Toxostoma bendirei

Brown, Toxostoma rufum

California, Toxostoma redivivum

Crissal, Toxostoma crissale

Curve-billed, Toxostoma curvirostre

LeConte's, Toxostoma lecontei

Long-billed, Toxostoma longirostre

Pearly-eyed, Margarops fuscatus

Sage, Oreoscoptes montanus

THRUSH, Aztec, Ridgwayia pinicola

Bicknell's, Catharus bicknelli

Clay-colored, Turdus grayi

Dusky, Turdus naumanni

Eyebrowed, Turdus obscurus

Gray-cheeked, Catharus minimus

Hermit, Catharus guttatus

Red-legged, Turdus plumbeus

Swainson's, Catharus ustulatus

Varied, Ixoreus naevius

White-throated, Turdus assimilis

Wood, Hylocichla mustelina

TIGER-HERON, Bare-throated, Tigrisoma mexicanum

TITMOUSE, Black-crested, Baeolophus atricristatus

Bridled, Baeolophus wollweberi

Juniper, Baeolophus ridgwayi

Oak, Baeolophus inornatus

Tufted, Baeolophus bicolor

TITYRA, Masked, Tityra semifasciata

TOWHEE, Abert's, Melozone aberti

California, Melozone crissalis

Canyon, Melozone fusca

Eastern, Pipilo erythrophthalmus

Green-tailed, Pipilo chlorurus

Spotted, Pipilo maculatus

TROGON, Elegant, Trogon elegans

TROPICBIRD, Red-billed, Phaethon aethereus

Red-tailed, Phaethon rubricauda

White-tailed, Phaethon lepturus

TURNSTONE, Black, Arenaria melanocephala

Ruddy, Arenaria interpres

TURTLE-DOVE, European, Streptopelia turtur

Oriental, Streptopelia orientalis

VEERY, Catharus fuscescens

VERDIN, Auriparus flaviceps

VIOLETEAR, Mexican, Colibri thalassinus

VIREO, Bell's, Vireo bellii

Black-capped, Vireo atricapilla

Black-whiskered, Vireo altiloquus

Blue-headed, Vireo solitarius

Cassin's, Vireo cassinii

Cuban, Vireo gundlachii

Gray, Vireo vicinior

Hutton's, Vireo huttoni

Philadelphia, Vireo philadelphicus

Plumbeous, Vireo plumbeus

Puerto Rican, Vireo latimeri

Red-eyed, Vireo olivaceus

Thick-billed, Vireo crassirostris

Warbling, Vireo gilvus

White-eyed, Vireo griseus

Yellow-green, Vireo flavoviridis

Yellow-throated, Vireo flavifrons

Yucatan, Vireo magister

VULTURE, Black, Coragyps atratus

Turkey, Cathartes aura

WAGTAIL, Citrine, Motacilla citreola

Eastern Yellow, Motacilla tschutschensis

Gray, Motacilla cinerea

White, Motacilla alba

WARBLER, Adelaide's, Setophaga adelaidae

Aguiguan Reed, Acrocephalus nijoi

Arctic, Phylloscopus borealis

Bachman's, Vermivora bachmanii

Bay-breasted, Setophaga castanea

Black-and-white, Mniotilta varia

Blackburnian, Setophaga fusca

Blackpoll, Setophaga striata

Black-throated Blue, Setophaga caerulescens

Black-throated Gray, Setophaga nigrescens

Black-throated Green, Setophaga virens

Blue-winged, Vermivora cyanoptera

Blyth's Reed, Acrocephalus dumetorum

Canada, Cardellina canadensis

Cape May, Setophaga tigrina

Cerulean, Setophaga cerulea

Chestnut-sided, Setophaga pensylvanica

Colima, Oreothlypis crissalis

Connecticut, Oporornis agilis

Crescent-chested, Oreothlypis superciliosa

Dusky, Phylloscopus fuscatus

Elfin-woods, Setophaga angelae

Fan-tailed, Basileuterus lachrymosus

Golden-cheeked, Setophaga chrysoparia

Golden-crowned, Basileuterus culicivorus

Golden-winged, Vermivora chrysoptera

Grace's, Setophaga graciae

Hermit, Setophaga occidentalis

Hooded, Setophaga citrina

Kamchatka Leaf, Phylloscopus examinandus

Kentucky, Geothlypis formosa

Kirtland's, Setophaga kirtlandii

Lanceolated, Locustella lanceolata

Lucy's, Oreothlypis luciae

MacGillivray's, Geothlypis tolmiei

Magnolia, Setophaga magnolia

Mourning, Geothlypis philadelphia

Nashville, Oreothlypis ruficapilla

Nightingale Reed, Acrocephalus luscinius

Olive, Peucedramus taeniatus

Orange-crowned, Oreothlypis celata

Pagan Reed, Acrocephalus yamashinae

Pallas's Leaf, Phylloscopus proregulus

Palm, Setophaga palmarum

Pine, Setophaga pinus

Prairie, Setophaga discolor

Prothonotary, Protonotaria citrea

Red-faced, Cardellina rubrifrons

Rufous-capped, Basileuterus rufifrons

Saipan Reed, Acrocephalus hiwae

Sedge, Acrocephalus schoenobaenus

Swainson's, Limnothlypis swainsonii

Tennessee, Oreothlypis peregrina

Townsend's, Setophaga townsendi

Virginia's, Oreothlypis virginiae

Willow, Phylloscopus trochilus

Wilson's, Cardellina pusilla

Wood, Phylloscopus sibilatrix

Worm-eating, Helmitheros vermivorum

Yellow, Setophaga petechia

Yellow-browed, Phylloscopus inornatus

Yellow-rumped, Setophaga coronata

Yellow-throated, Setophaga dominica

WATERTHRUSH, Louisiana, Parkesia motacilla

Northern, Parkesia noveboracensis

WAXWING, Bohemian, Bombycilla garrulus

Cedar, Bombycilla cedrorum

WHEATEAR, Northern, Oenanthe oenanthe

WHIMBREL, Numenius phaeopus

WHIP-POOR-WILL, Eastern, Antrostomus vociferus

Mexican, Antrostomus arizonae

WHISTLING-DUCK, Black-bellied, Dendrocygna autumnalis

Fulvous, Dendrocygna bicolor

West Indian, Dendrocygna arborea

WHITETHROAT, Lesser, Sylvia curruca

WIGEON, American, Mareca americana

Eurasian, Mareca penelope

WILLET, Tringa semipalmata

WOODCOCK, American, Scolopax minor

Eurasian, Scolopax rusticola

WOODPECKER, Acorn, Melanerpes formicivorus

American Three-toed, Picoides dorsalis

Arizona, Dryobates arizonae

Black-backed, Picoides arcticus

Downy, Dryobates pubescens

Gila, Melanerpes uropygialis

Golden-fronted, Melanerpes aurifrons

Great Spotted, Dendrocopos major

Hairy, Dryobates villosus

Ivory-billed, Campephilus principalis

Ladder-backed, Dryobates scalaris

Lewis's, Melanerpes lewis

Nuttall's, Dryobates nuttallii

Pileated, Dryocopus pileatus

Puerto Rican, Melanerpes portoricensis

Red-bellied, Melanerpes carolinus

Red-cockaded, Dryobates borealis

Red-headed, Melanerpes erythrocephalus

White-headed, Dryobates albolarvatus

WOOD-PEWEE, Eastern, Contopus virens

Western, Contopus sordidulus

WOOD-RAIL, Rufous-necked, Aramides axillaris

WOODSTAR, Bahama, Calliphlox evelynae

WREN, Bewick's, Thryomanes bewickii

Cactus, Campylorhynchus brunneicapillus

Canyon, Catherpes mexicanus

Carolina, Thryothorus ludovicianus

House, Troglodytes aedon

Marsh, Cistothorus palustris

Pacific, Troglodytes pacificus

Rock, Salpinctes obsoletus

Sedge, Cistothorus platensis

Sinaloa, Thryophilus sinaloa

Winter, Troglodytes hiemalis

WRENTIT, Chamaea fasciata

WRYNECK, Eurasian, Jynx torquilla

YELLOWLEGS, Greater, Tringa melanoleuca

Lesser, Tringa flavipes

YELLOWTHROAT, Common, Geothlypis trichas

Gray-crowned, Geothlypis poliocephala

(2) Taxonomic listing. Species are listed in phylogenetic sequence by scientific name, with the common (English) name following the scientific name. To help clarify species relationships, we also list the higher-level taxonomic categories of Order, Family, and Subfamily.

Order ANSERIFORMES

Family ANATIDAE

Subfamily DENDROCYGNINAE

Dendrocygna autumnalis, Black-bellied Whistling-Duck

Dendrocygna arborea, West Indian Whistling-Duck

Dendrocygna bicolor, Fulvous Whistling-Duck

Subfamily ANSERINAE

Anser canagicus, Emperor Goose

Anser caerulescens, Snow Goose

Anser rossii, Ross's Goose

Anser albifrons, Greater White-fronted Goose

Anser erythropus, Lesser White-fronted Goose

Anser fabalis, Taiga Bean-Goose

Anser serrirostris, Tundra Bean-Goose

Anser brachyrhynchus, Pink-footed Goose

Branta bernicla, Brant

Branta leucopsis, Barnacle Goose

Branta hutchinsii, Cackling Goose

Branta canadensis, Canada Goose

Branta sandvicensis, Hawaiian Goose

Cygnus buccinator, Trumpeter Swan

Cygnus columbianus, Tundra Swan

Cygnus cygnus, Whooper Swan

Subfamily ANATINAE

Cairina moschata, Muscovy Duck

Aix sponsa, Wood Duck

Sibirionetta formosa, Baikal Teal

Spatula querquedula, Garganey

Spatula discors, Blue-winged Teal

Spatula cyanoptera, Cinnamon Teal

Spatula clypeata, Northern Shoveler

Mareca strepera, Gadwall

Mareca falcata, Falcated Duck

Mareca penelope, Eurasian Wigeon

Mareca americana, American Wigeon

Anas laysanensis, Laysan Duck

Anas wyvilliana, Hawaiian Duck

Anas zonorhyncha, Eastern Spot-billed Duck

Anas platyrhynchos, Mallard

Anas rubripes, American Black Duck

Anas fulvigula, Mottled Duck

Anas superciliosa, Pacific Black Duck

Anas bahamensis, White-cheeked Pintail

Anas acuta, Northern Pintail

Anas crecca, Green-winged Teal

Aythya valisineria, Canvasback

Aythya americana, Redhead

Aythya ferina, Common Pochard

Aythya baeri, Baer's Pochard

Aythya collaris, Ring-necked Duck

Aythya fuligula, Tufted Duck

Aythya marila, Greater Scaup

Aythya affinis, Lesser Scaup

Polysticta stelleri, Steller's Eider

Somateria fischeri, Spectacled Eider

Somateria spectabilis, King Eider

Somateria mollissima, Common Eider

Histrionicus histrionicus, Harlequin Duck

Melanitta perspicillata, Surf Scoter

Melanitta fusca, White-winged Scoter

Melanitta nigra, Common Scoter

Melanitta americana, Black Scoter

Clangula hyemalis, Long-tailed Duck

Bucephala albeola, Bufflehead

Bucephala clangula, Common Goldeneye

Bucephala islandica, Barrow's Goldeneye

Mergellus albellus, Smew

Lophodytes cucullatus, Hooded Merganser

Mergus merganser, Common Merganser

Mergus serrator, Red-breasted Merganser

Nomonyx dominicus, Masked Duck

Oxyura jamaicensis, Ruddy Duck

Order PHOENICOPTERIFORMES

Family PHOENICOPTERIDAE

Phoenicopterus ruber, American Flamingo

Order PODICIPEDIFORMES

Family PODICIPEDIDAE

Tachybaptus dominicus, Least Grebe

Podilymbus podiceps, Pied-billed Grebe

Podiceps auritus, Horned Grebe

Podiceps grisegena, Red-necked Grebe

Podiceps nigricollis, Eared Grebe

Aechmophorus occidentalis, Western Grebe

Aechmophorus clarkii, Clark's Grebe

Order COLUMBIFORMES

Family COLUMBIDAE

Patagioenas squamosa, Scaly-naped Pigeon

Patagioenas leucocephala, White-crowned Pigeon

Patagioenas flavirostris, Red-billed Pigeon

Patagioenas inornata, Plain Pigeon

Patagioenas fasciata, Band-tailed Pigeon

Streptopelia orientalis, Oriental Turtle-Dove

Alopecoenas xanthonura, White-throated Ground-Dove

Alopecoenas stairi, Shy Ground-Dove

Streptopelia turtur, European Turtle-Dove

Columbina inca, Inca Dove

Columbina passerina, Common Ground-Dove

Columbina talpacoti, Ruddy Ground-Dove

Geotrygon montana, Ruddy Quail-Dove

Geotrygon chrysia, Key West Quail-Dove

Geotrygon mystacea, Bridled Quail-Dove

Leptotila verreauxi, White-tipped Dove

Zenaida asiatica, White-winged Dove

Zenaida aurita, Zenaida Dove

Zenaida macroura, Mourning Dove

Ptilinopus perousii, Many-colored Fruit-Dove

Ptilinopus porphyraceus, Crimson-crowned Fruit-Dove

Ptilinopus roseicapilla, Mariana Fruit-Dove

Ducula pacifica, Pacific Imperial-Pigeon

Order CUCULIFORMES

Family CUCULIDAE

Subfamily CUCULINAE

Urodynamis taitensis, Long-tailed Koel

Hierococcyx nisicolor, Hodgson's Hawk-Cuckoo

Cuculus canorus, Common Cuckoo

Cuculus optatus, Oriental Cuckoo

Coccyzus americanus, Yellow-billed Cuckoo

Coccyzus minor, Mangrove Cuckoo

Coccyzus erythropthalmus, Black-billed Cuckoo

Coccyzus vieilloti, Puerto Rican Lizard-Cuckoo

Subfamily NEOMORPHINAE

Geococcyx californianus, Greater Roadrunner

Subfamily CROTOPHAGINAE

Crotophaga ani, Smooth-billed Ani

Crotophaga sulcirostris, Groove-billed Ani

Order CAPRIMULGIFORMES

Family CAPRIMULGIDAE

Subfamily CHORDEILINAE

Chordeiles acutipennis, Lesser Nighthawk

Chordeiles minor, Common Nighthawk

Chordeiles gundlachii, Antillean Nighthawk

Subfamily CAPRIMULGINAE

Nyctidromus albicollis, Common Pauraque

Phalaenoptilus nuttallii, Common Poorwill

Antrostomus carolinensis, Chuck-will's-widow

Antrostomus ridgwayi, Buff-collared Nightjar

Antrostomus vociferus, Eastern Whip-poor-will

Antrostomus arizonae, Mexican Whip-poor-will

Antrostomus noctitherus, Puerto Rican Nightjar

Hydropsalis cayennensis, White-tailed Nightjar

Caprimulgus jotaka, Gray Nightjar

Order APODIFORMES

Family APODIDAE

Subfamily CYPSELOIDINAE

Cypseloides niger, Black Swift

Streptoprocne zonaris, White-collared Swift

Subfamily CHAETURINAE

Chaetura pelagica, Chimney Swift

Chaetura vauxi, Vaux's Swift

Chaetura brachyura, Short-tailed Swift

Hirundapus caudacutus, White-throated Needletail

Aerodramus spodiopygius, White-rumped Swiftlet

Aerodramus bartschi, Mariana Swiftlet

Subfamily APODINAE

Apus apus, Common Swift

Apus pacificus, Fork-tailed Swift

Apus melba, Alpine Swift

Aeronautes saxatalis, White-throated Swift

Tachornis phoenicobia, Antillean Palm-Swift

Family TROCHILIDAE

Subfamily TROCHILINAE

Colibri thalassinus, Mexican Violetear

Anthracothorax prevostii, Green-breasted Mango

Anthracothorax dominicus, Antillean Mango

Anthracothorax viridis, Green Mango

Eulampis jugularis, Purple-throated Carib

Eulampis holosericeus, Green-throated Carib

Eugenes fulgens, Rivoli's Hummingbird

Heliomaster constantii, Plain-capped Starthroat

Lampornis amethystinus, Amethyst-throated Hummingbird

Lampornis clemenciae, Blue-throated Hummingbird

Calliphlox evelynae, Bahama Woodstar

Calothorax lucifer, Lucifer Hummingbird

Archilochus colubris, Ruby-throated Hummingbird

Archilochus alexandri, Black-chinned Hummingbird

Mellisuga minima, Vervain Hummingbird

Calypte anna, Anna's Hummingbird

Calypte costae, Costa's Hummingbird

Atthis heloisa, Bumblebee Hummingbird

Selasphorus platycercus, Broad-tailed Hummingbird

Selasphorus rufus, Rufous Hummingbird

Selasphorus sasin, Allen's Hummingbird

Selasphorus calliope, Calliope Hummingbird

Chlorostilbon maugaeus, Puerto Rican Emerald

Cynanthus latirostris, Broad-billed Hummingbird

Orthorhyncus cristatus, Antillean Crested Hummingbird

Amazilia beryllina, Berylline Hummingbird

Amazilia yucatanensis, Buff-bellied Hummingbird

Amazilia rutila, Cinnamon Hummingbird

Amazilia violiceps, Violet-crowned Hummingbird

Hylocharis leucotis, White-eared Hummingbird

Hylocharis xantusii, Xantus's Hummingbird

Order GRUIFORMES

Family RALLIDAE

Coturnicops noveboracensis, Yellow Rail

Laterallus jamaicensis, Black Rail

Gallirallus philippensis, Buff-banded Rail

Gallirallus owstoni, Guam Rail

Crex crex, Corn Crake

Rallus obsoletus, Ridgway's Rail

Rallus crepitans, Clapper Rail

Rallus elegans, King Rail

Rallus limicola, Virginia Rail

Aramides axillaris, Rufous-necked Wood-Rail

Porzana carolina, Sora

Porzana tabuensis, Spotless Crake

Hapalocrex flaviventer, Yellow-breasted Crake

Neocrex erythrops, Paint-billed Crake

Pardirallus maculatus, Spotted Rail

Porphyrio martinicus, Purple Gallinule

Porphyrio flavirostris, Azure Gallinule

Porphyrio porphyrio, Purple Swamphen

Gallinula galeata, Common Gallinule

Gallinula chloropus, Common Moorhen

Fulica atra, Eurasian Coot

Fulica alai, Hawaiian Coot

Fulica americana, American Coot

Family ARAMIDAE

Aramus guarauna, Limpkin

Family GRUIDAE

Subfamily GRUINAE

Antigone canadensis, Sandhill Crane

Grus grus, Common Crane

Grus americana, Whooping Crane

Order CHARADRIIFORMES

Family RECURVIROSTRIDAE

Himantopus himantopus, Black-winged Stilt

Himantopus mexicanus, Black-necked Stilt

Recurvirostra americana, American Avocet

Family HAEMATOPODIDAE

Haematopus ostralegus, Eurasian Oystercatcher

Haematopus palliatus, American Oystercatcher

Haematopus bachmani, Black Oystercatcher

Family CHARADRIIDAE

Subfamily VANELLINAE

Vanellus vanellus, Northern Lapwing

Subfamily CHARADRIINAE

Pluvialis squatarola, Black-bellied Plover

Pluvialis apricaria, European Golden-Plover

Pluvialis dominica, American Golden-Plover

Pluvialis fulva, Pacific Golden-Plover

Charadrius mongolus, Lesser Sand-Plover

Charadrius leschenaultii, Greater Sand-Plover

Charadrius collaris, Collared Plover

Charadrius alexandrinus, Kentish Plover

Charadrius nivosus, Snowy Plover

Charadrius wilsonia, Wilson's Plover

Charadrius hiaticula, Common Ringed Plover

Charadrius semipalmatus, Semipalmated Plover

Charadrius melodus, Piping Plover

Charadrius dubius, Little Ringed Plover

Charadrius vociferus, Killdeer

Charadrius montanus, Mountain Plover

Charadrius morinellus, Eurasian Dotterel

Family JACANIDAE

Jacana spinosa, Northern Jacana

Family SCOLOPACIDAE

Subfamily NUMENIINAE

Bartramia longicauda, Upland Sandpiper

Numenius tahitiensis, Bristle-thighed Curlew

Numenius phaeopus, Whimbrel

Numenius minutus, Little Curlew

Numenius borealis, Eskimo Curlew

Numenius americanus, Long-billed Curlew

Numenius madagascariensis, Far Eastern Curlew

Numenius arquata, Eurasian Curlew

Subfamily LIMOSINAE

Limosa lapponica, Bar-tailed Godwit

Limosa limosa, Black-tailed Godwit

Limosa haemastica, Hudsonian Godwit

Limosa fedoa, Marbled Godwit

Subfamily ARENARIINAE

Arenaria interpres, Ruddy Turnstone

Arenaria melanocephala, Black Turnstone

Calidris tenuirostris, Great Knot

Calidris canutus, Red Knot

Calidris virgata, Surfbird

Calidris pugnax, Ruff

Calidris falcinellus, Broad-billed Sandpiper

Calidris acuminata, Sharp-tailed Sandpiper

Calidris himantopus, Stilt Sandpiper

Calidris ferruginea, Curlew Sandpiper

Calidris temminckii, Temminck's Stint

Calidris subminuta, Long-toed Stint

Calidris pygmea, Spoon-billed Sandpiper

Calidris ruficollis, Red-necked Stint

Calidris alba, Sanderling

Calidris alpina, Dunlin

Calidris ptilocnemis, Rock Sandpiper

Calidris maritima, Purple Sandpiper

Calidris bairdii, Baird's Sandpiper

Calidris minuta, Little Stint

Calidris minutilla, Least Sandpiper

Calidris fuscicollis, White-rumped Sandpiper

Calidris subruficollis, Buff-breasted Sandpiper

Calidris melanotos, Pectoral Sandpiper

Calidris pusilla, Semipalmated Sandpiper

Calidris mauri, Western Sandpiper

Subfamily SCOLOPACINAE

Limnodromus griseus, Short-billed Dowitcher

Limnodromus scolopaceus, Long-billed Dowitcher

Lymnocryptes minimus, Jack Snipe

Scolopax rusticola, Eurasian Woodcock

Scolopax minor, American Woodcock

Gallinago solitaria, Solitary Snipe

Gallinago stenura, Pin-tailed Snipe

Gallinago megala, Swinhoe's Snipe

Gallinago gallinago, Common Snipe

Gallinago delicata, Wilson's Snipe

Subfamily TRINGINAE

Xenus cinereus, Terek Sandpiper

Actitis hypoleucos, Common Sandpiper

Actitis macularius, Spotted Sandpiper

Tringa ochropus, Green Sandpiper

Tringa solitaria, Solitary Sandpiper

Tringa brevipes, Gray-tailed Tattler

Tringa incana, Wandering Tattler

Tringa flavipes, Lesser Yellowlegs

Tringa semipalmata, Willet

Tringa erythropus, Spotted Redshank

Tringa nebularia, Common Greenshank

Tringa guttifer, Nordmann's Greenshank

Tringa melanoleuca, Greater Yellowlegs

Tringa totanus, Common Redshank

Tringa glareola, Wood Sandpiper

Tringa stagnatilis, Marsh Sandpiper

Phalaropus tricolor, Wilson's Phalarope

Phalaropus lobatus, Red-necked Phalarope

Phalaropus fulicarius, Red Phalarope

Family STERCORARIIDAE

Stercorarius skua, Great Skua

Stercorarius maccormicki, South Polar Skua

Stercorarius pomarinus, Pomarine Jaeger

Stercorarius parasiticus, Parasitic Jaeger

Stercorarius longicaudus, Long-tailed Jaeger

Family ALCIDAE

Alle alle, Dovekie

Uria aalge, Common Murre

Uria lomvia, Thick-billed Murre

Alca torda, Razorbill

Cepphus grylle, Black Guillemot

Cepphus columba, Pigeon Guillemot

Brachyramphus perdix, Long-billed Murrelet

Brachyramphus marmoratus, Marbled Murrelet

Brachyramphus brevirostris, Kittlitz's Murrelet

Synthliboramphus scrippsi, Scripps's Murrelet

Synthliboramphus hypoleucus, Guadalupe Murrelet

Synthliboramphus craveri, Craveri's Murrelet

Synthliboramphus antiquus, Ancient Murrelet

Ptychoramphus aleuticus, Cassin's Auklet

Aethia psittacula, Parakeet Auklet

Aethia pusilla, Least Auklet

Aethia pygmaea, Whiskered Auklet

Aethia cristatella, Crested Auklet

Cerorhinca monocerata, Rhinoceros Auklet

Fratercula arctica, Atlantic Puffin

Fratercula corniculata, Horned Puffin

Fratercula cirrhata, Tufted Puffin

Family LARIDAE

Subfamily LARINAE

Creagrus furcatus, Swallow-tailed Gull

Rissa tridactyla, Black-legged Kittiwake

Rissa brevirostris, Red-legged Kittiwake

Pagophila eburnea, Ivory Gull

Xema sabini, Sabine's Gull

Chroicocephalus philadelphia, Bonaparte's Gull

Chroicocephalus cirrocephalus, Gray-hooded Gull

Chroicocephalus ridibundus, Black-headed Gull

Hydrocoloeus minutus, Little Gull

Rhodostethia rosea, Ross's Gull

Leucophaeus atricilla, Laughing Gull

Leucophaeus pipixcan, Franklin's Gull

Larus belcheri, Belcher's Gull

Larus crassirostris, Black-tailed Gull

Larus heermanni, Heermann's Gull

Larus canus, Mew Gull

Larus delawarensis, Ring-billed Gull

Larus occidentalis, Western Gull

Larus livens, Yellow-footed Gull

Larus californicus, California Gull

Larus argentatus, Herring Gull

Larus michahellis, Yellow-legged Gull

Larus glaucoides, Iceland Gull

Larus fuscus, Lesser Black-backed Gull

Larus schistisagus, Slaty-backed Gull

Larus glaucescens, Glaucous-winged Gull

Larus hyperboreus, Glaucous Gull

Larus marinus, Great Black-backed Gull

Larus dominicanus, Kelp Gull

Subfamily STERNINAE

Anous stolidus, Brown Noddy

Anous minutus, Black Noddy

Anous ceruleus, Blue-gray Noddy

Gygis alba, White Tern

Onychoprion fuscatus, Sooty Tern

Onychoprion lunatus, Gray-backed Tern

Onychoprion anaethetus, Bridled Tern

Onychoprion aleuticus, Aleutian Tern

Sternula albifrons, Little Tern

Sternula antillarum, Least Tern

Phaetusa simplex, Large-billed Tern

Gelochelidon nilotica, Gull-billed Tern

Hydroprogne caspia, Caspian Tern

Chlidonias niger, Black Tern

Chlidonias leucopterus, White-winged Tern

Chlidonias hybrida, Whiskered Tern

Sterna dougallii, Roseate Tern

Sterna sumatrana, Black-naped Tern

Sterna hirundo, Common Tern

Sterna paradisaea, Arctic Tern

Sterna forsteri, Forster's Tern

Thalasseus maximus, Royal Tern

Thalasseus bergii, Great Crested Tern

Thalasseus sandvicensis, Sandwich Tern

Thalasseus elegans, Elegant Tern

Subfamily RYNCHOPINAE

Rynchops niger, Black Skimmer

Order PHAETHONTIFORMES

Family PHAETHONTIDAE

Phaethon lepturus, White-tailed Tropicbird

Phaethon aethereus, Red-billed Tropicbird

Phaethon rubricauda, Red-tailed Tropicbird

Order GAVIIFORMES

Family GAVIIDAE

Gavia stellata, Red-throated Loon

Gavia arctica, Arctic Loon

Gavia pacifica, Pacific Loon

Gavia immer, Common Loon

Gavia adamsii, Yellow-billed Loon

Order PROCELLARIIFORMES

Family DIOMEDEIDAE

Thalassarche chlororhynchos, Yellow-nosed Albatross

Thalassarche cauta, White-capped Albatross

Thalassarche eremita, Chatham Albatross

Thalassarche salvini, Salvin's Albatross

Thalassarche melanophris, Black-browed Albatross

Phoebetria palpebrata, Light-mantled Albatross

Diomedea exulans, Wandering Albatross

Phoebastria immutabilis, Laysan Albatross

Phoebastria nigripes, Black-footed Albatross

Phoebastria albatrus, Short-tailed Albatross

Family OCEANITIDAE

Oceanites oceanicus, Wilson's Storm-Petrel

Pelagodroma marina, White-faced Storm-Petrel

Fregetta tropica, Black-bellied Storm-Petrel

Family HYDROBATIDAE

Fregetta grallaria, White-bellied Storm-Petrel

Nesofregetta fuliginosa, Polynesian Storm-Petrel

Oceanodroma furcata, Fork-tailed Storm-Petrel

Oceanodroma hornbyi, Ringed Storm-Petrel

Oceanodroma monorhis, Swinhoe's Storm-Petrel

Oceanodroma leucorhoa, Leach's Storm-Petrel

Oceanodroma socorroensis, Townsend's Storm-Petrel

Oceanodroma homochroa, Ashy Storm-Petrel

Oceanodroma castro, Band-rumped Storm-Petrel

Oceanodroma tethys, Wedge-rumped Storm-Petrel

Oceanodroma matsudairae, Matsudaira's Storm-Petrel

Oceanodroma melania, Black Storm-Petrel

Oceanodroma tristrami, Tristram's Storm-Petrel

Oceanodroma microsoma, Least Storm-Petrel

Family PROCELLARIIDAE

Fulmarus glacialis, Northern Fulmar

Pterodroma macroptera, Great-winged Petrel

Pterodroma solandri, Providence Petrel

Pterodroma neglecta, Kermadec Petrel

Pterodroma arminjoniana, Trindade Petrel

Pterodroma heraldica, Herald Petrel

Pterodroma ultima, Murphy's Petrel

Pterodroma inexpectata, Mottled Petrel

Pterodroma cahow, Bermuda Petrel

Pterodroma hasitata, Black-capped Petrel

Pterodroma externa, Juan Fernandez Petrel

Pterodroma sandwichensis, Hawaiian Petrel

Pterodroma cervicalis, White-necked Petrel

Pterodroma hypoleuca, Bonin Petrel

Pterodroma nigripennis, Black-winged Petrel

Pterodroma feae, Fea's Petrel

Pterodroma madeira, Zino's Petrel

Pterodroma cookii, Cook's Petrel

Pterodroma longirostris, Stejneger's Petrel

Pterodroma alba, Phoenix Petrel

Pterodroma leucoptera, Gould's Petrel

Pseudobulweria rostrata, Tahiti Petrel

Bulweria bulwerii, Bulwer's Petrel

Bulweria fallax, Jouanin's Petrel

Procellaria aequinoctialis, White-chinned Petrel

Procellaria parkinsoni, Parkinson's Petrel

Calonectris leucomelas, Streaked Shearwater

Calonectris diomedea, Cory's Shearwater

Calonectris edwardsii, Cape Verde Shearwater

Ardenna pacifica, Wedge-tailed Shearwater

Ardenna bulleri, Buller's Shearwater

Ardenna tenuirostris, Short-tailed Shearwater

Ardenna grisea, Sooty Shearwater

Ardenna gravis, Great Shearwater

Ardenna creatopus, Pink-footed Shearwater

Ardenna carneipes, Flesh-footed Shearwater

Puffinus nativitatis, Christmas Shearwater

Puffinus puffinus, Manx Shearwater

Puffinus newelli, Newell's Shearwater

Puffinus bryani, Bryan's Shearwater

Puffinus opisthomelas, Black-vented Shearwater

Puffinus lherminieri, Audubon's Shearwater

Puffinus baroli, Barolo Shearwater

Order CICONIIFORMES

Family CICONIIDAE

Jabiru mycteria, Jabiru

Mycteria americana, Wood Stork

Order SULIFORMES

Family FREGATIDAE

Fregata magnificens, Magnificent Frigatebird

Fregata minor, Great Frigatebird

Fregata ariel, Lesser Frigatebird

Family SULIDAE

Sula dactylatra, Masked Booby

Sula granti, Nazca Booby

Sula nebouxii, Blue-footed Booby

Sula leucogaster, Brown Booby

Sula sula, Red-footed Booby

Papasula abbotti, Abbott's Booby

Morus bassanus, Northern Gannet

Family PHALACROCORACIDAE

Phalacrocorax melanoleucos, Little Pied Cormorant

Phalacrocorax penicillatus, Brandt's Cormorant

Phalacrocorax brasilianus, Neotropic Cormorant

Phalacrocorax auritus, Double-crested Cormorant

Phalacrocorax carbo, Great Cormorant

Phalacrocorax urile, Red-faced Cormorant

Phalacrocorax pelagicus, Pelagic Cormorant

Family ANHINGIDAE

Anhinga anhinga, Anhinga

Order PELECANIFORMES

Family PELECANIDAE

Pelecanus erythrorhynchos, American White Pelican

Pelecanus occidentalis, Brown Pelican

Family ARDEIDAE

Botaurus lentiginosus, American Bittern

Ixobrychus sinensis, Yellow Bittern

Ixobrychus exilis, Least Bittern

Ixobrychus eurhythmus, Schrenck's Bittern

Ixobrychus flavicollis, Black Bittern

Tigrisoma mexicanum, Bare-throated Tiger-Heron

Ardea herodias, Great Blue Heron

Ardea cinerea, Gray Heron

Ardea alba, Great Egret

Ardea intermedia, Intermediate Egret

Egretta eulophotes, Chinese Egret

Egretta garzetta, Little Egret

Egretta sacra, Pacific Reef-Heron

Egretta gularis, Western Reef-Heron

Egretta thula, Snowy Egret

Egretta caerulea, Little Blue Heron

Egretta tricolor, Tricolored Heron

Egretta rufescens, Reddish Egret

Bubulcus ibis, Cattle Egret

Ardeola bacchus, Chinese Pond-Heron

Butorides virescens, Green Heron

Nycticorax nycticorax, Black-crowned Night-Heron

Nycticorax caledonicus, Rufous Night-Heron

Nyctanassa violacea, Yellow-crowned Night-Heron

Gorsachius goisagi, Japanese Night-Heron

Gorsachius melanolophus, Malayan Night-Heron

Family THRESKIORNITHIDAE

Subfamily THRESKIORNITHINAE

Eudocimus albus, White Ibis

Eudocimus ruber, Scarlet Ibis

Plegadis falcinellus, Glossy Ibis

Plegadis chihi, White-faced Ibis

Subfamily PLATALEINAE

Platalea ajaja, Roseate Spoonbill

Order CARTHARTIFORMES

Family CATHARTIDAE

Coragyps atratus, Black Vulture

Cathartes aura, Turkey Vulture

Gymnogyps californianus, California Condor

Order ACCIPITRIFORMES

Family PANDIONIDAE

Pandion haliaetus, Osprey

Family ACCIPITRIDAE

Subfamily ELANINAE

Elanus leucurus, White-tailed Kite

Subfamily GYPAETINAE

Chondrohierax uncinatus, Hook-billed Kite

Elanoides forficatus, Swallow-tailed Kite

Subfamily ACCIPITRINAE

Aquila chrysaetos, Golden Eagle

Harpagus bidentatus, Double-toothed Kite

Circus spilonotus, Eastern Marsh-Harrier

Circus hudsonius, Northern Harrier

Accipiter soloensis, Chinese Sparrowhawk

Accipiter gularis, Japanese Sparrowhawk

Accipiter striatus, Sharp-shinned Hawk

Accipiter cooperii, Cooper's Hawk

Accipiter gentilis, Northern Goshawk

Milvus migrans, Black Kite

Haliaeetus leucocephalus, Bald Eagle

Haliaeetus albicilla, White-tailed Eagle

Haliaeetus pelagicus, Steller's Sea-Eagle

Ictinia mississippiensis, Mississippi Kite

Butastur indicus, Gray-faced Buzzard

Geranospiza caerulescens, Crane Hawk

Rostrhamus sociabilis, Snail Kite

Buteogallus anthracinus, Common Black Hawk

Rupornis magnirostris, Roadside Hawk

Parabuteo unicinctus, Harris's Hawk

Geranoaetus albicaudatus, White-tailed Hawk

Buteo plagiatus, Gray Hawk

Buteo lineatus, Red-shouldered Hawk

Buteo platypterus, Broad-winged Hawk

Buteo solitarius, Hawaiian Hawk

Buteo brachyurus, Short-tailed Hawk

Buteo swainsoni, Swainson's Hawk

Buteo albonotatus, Zone-tailed Hawk

Buteo jamaicensis, Red-tailed Hawk

Buteo lagopus, Rough-legged Hawk

Buteo regalis, Ferruginous Hawk

Order STRIGIFORMES

Family TYTONIDAE

Tyto alba, Barn Owl

Family STRIGIDAE

Otus sunia, Oriental Scops-Owl

Psiloscops flammeolus, Flammulated Owl

Megascops kennicottii, Western Screech-Owl

Megascops asio, Eastern Screech-Owl

Megascops trichopsis, Whiskered Screech-Owl

Megascops nudipes, Puerto Rican Screech-Owl

Bubo virginianus, Great Horned Owl

Bubo scandiacus, Snowy Owl

Surnia ulula, Northern Hawk Owl

Glaucidium gnoma, Northern Pygmy-Owl

Glaucidium brasilianum, Ferruginous Pygmy-Owl

Micrathene whitneyi, Elf Owl

Athene cunicularia, Burrowing Owl

Ciccaba virgata, Mottled Owl

Strix occidentalis, Spotted Owl

Strix varia, Barred Owl

Strix nebulosa, Great Gray Owl

Asio otus, Long-eared Owl

Asio stygius, Stygian Owl

Asio flammeus, Short-eared Owl

Aegolius funereus, Boreal Owl

Aegolius acadicus, Northern Saw-whet Owl

Ninox japonica, Northern Boobook

Order TROGONIFORMES

Family TROGONIDAE

Subfamily TROGONINAE

Trogon elegans, Elegant Trogon

Euptilotis neoxenus, Eared Quetzal

Order UPUPIFORMES

Family UPUPIDAE

Upupa epops, Eurasian Hoopoe

Order CORACIIFORMES

Family ALCEDINIDAE

Subfamily ALCEDININAE

Alcedo atthis, Common Kingfisher

Subfamily HALCYONINAE

Todiramphus sacer, Pacific Kingfisher

Todiramphus cinnamominus, Guam Kingfisher

Todiramphus albicilla, Mariana Kingfisher

Subfamily CERYLINAE

Megaceryle torquata, Ringed Kingfisher

Megaceryle alcyon, Belted Kingfisher

Chloroceryle amazona, Amazon Kingfisher

Chloroceryle americana, Green Kingfisher

Order PICIFORMES

Family PICIDAE

Subfamily JYNGINAE

Jynx torquilla, Eurasian Wryneck

Subfamily PICINAE

Melanerpes lewis, Lewis's Woodpecker

Melanerpes portoricensis, Puerto Rican Woodpecker

Melanerpes erythrocephalus, Red-headed Woodpecker

Melanerpes formicivorus, Acorn Woodpecker

Melanerpes uropygialis, Gila Woodpecker

Melanerpes aurifrons, Golden-fronted Woodpecker

Melanerpes carolinus, Red-bellied Woodpecker

Sphyrapicus thyroideus, Williamson's Sapsucker

Sphyrapicus varius, Yellow-bellied Sapsucker

Sphyrapicus nuchalis, Red-naped Sapsucker

Sphyrapicus ruber, Red-breasted Sapsucker

Picoides dorsalis, American Three-toed Woodpecker

Picoides arcticus, Black-backed Woodpecker

Dendrocopos major, Great Spotted Woodpecker

Dryobates pubescens, Downy Woodpecker

Dryobates nuttallii, Nuttall's Woodpecker

Dryobates scalaris, Ladder-backed Woodpecker

Dryobates borealis, Red-cockaded Woodpecker

Dryobates villosus, Hairy Woodpecker

Dryobates albolarvatus, White-headed Woodpecker

Dryobates arizonae, Arizona Woodpecker

Colaptes auratus, Northern Flicker

Colaptes chrysoides, Gilded Flicker

Dryocopus pileatus, Pileated Woodpecker

Campephilus principalis, Ivory-billed Woodpecker

Order FALCONIFORMES

Family FALCONIDAE

Subfamily HERPETOTHERINAE

Micrastur semitorquatus, Collared Forest-Falcon

Subfamily FALCONINAE

Caracara cheriway, Crested Caracara

Falco tinnunculus, Eurasian Kestrel

Falco sparverius, American Kestrel

Falco vespertinus, Red-footed Falcon

Falco amurensis, Amur Falcon

Falco columbarius, Merlin

Falco subbuteo, Eurasian Hobby

Falco femoralis, Aplomado Falcon

Falco rusticolus, Gyrfalcon

Falco peregrinus, Peregrine Falcon

Falco mexicanus, Prairie Falcon

Order PASSERIFORMES

Family TITYRIDAE

Tityra semifasciata, Masked Tityra

Pachyramphus major, Gray-collared Becard

Pachyramphus aglaiae, Rose-throated Becard

Family TYRANNIDAE

Subfamily ELAENIINAE

Camptostoma imberbe, Northern Beardless-Tyrannulet

Myiopagis viridicata, Greenish Elaenia

Elaenia martinica, Caribbean Elaenia

Elaenia albiceps, White-crested Elaenia

Subfamily FLUVICOLINAE

Mitrephanes phaeocercus, Tufted Flycatcher

Contopus cooperi, Olive-sided Flycatcher

Contopus pertinax, Greater Pewee

Contopus sordidulus, Western Wood-Pewee

Contopus virens, Eastern Wood-Pewee

Contopus caribaeus, Cuban Pewee

Contopus hispaniolensis, Hispaniolan Pewee

Contopus latirostris, Lesser Antillean Pewee

Empidonax flaviventris, Yellow-bellied Flycatcher

Empidonax virescens, Acadian Flycatcher

Empidonax alnorum, Alder Flycatcher

Empidonax traillii, Willow Flycatcher

Empidonax minimus, Least Flycatcher

Empidonax hammondii, Hammond's Flycatcher

Empidonax wrightii, Gray Flycatcher

Empidonax oberholseri, Dusky Flycatcher

Empidonax affinis, Pine Flycatcher

Empidonax difficilis, Pacific-slope Flycatcher

Empidonax occidentalis, Cordilleran Flycatcher

Empidonax fulvifrons, Buff-breasted Flycatcher

Sayornis nigricans, Black Phoebe

Sayornis phoebe, Eastern Phoebe

Sayornis saya, Say's Phoebe

Pyrocephalus rubinus, Vermilion Flycatcher

Subfamily TYRANNINAE

Myiarchus tuberculifer, Dusky-capped Flycatcher

Myiarchus cinerascens, Ash-throated Flycatcher

Myiarchus nuttingi, Nutting's Flycatcher

Myiarchus crinitus, Great Crested Flycatcher

Myiarchus tyrannulus, Brown-crested Flycatcher

Myiarchus sagrae, La Sagra's Flycatcher

Myiarchus antillarum, Puerto Rican Flycatcher

Pitangus sulphuratus, Great Kiskadee

Myiozetetes similis, Social Flycatcher

Myiodynastes luteiventris, Sulphur-bellied Flycatcher

Legatus leucophaius, Piratic Flycatcher

Empidonomus varius, Variegated Flycatcher

Empidonomus aurantioatrocristatus, Crowned Slaty Flycatcher

Tyrannus melancholicus, Tropical Kingbird

Tyrannus couchii, Couch's Kingbird

Tyrannus vociferans, Cassin's Kingbird

Tyrannus crassirostris, Thick-billed Kingbird

Tyrannus verticalis, Western Kingbird

Tyrannus tyrannus, Eastern Kingbird

Tyrannus dominicensis, Gray Kingbird

Tyrannus caudifasciatus, Loggerhead Kingbird

Tyrannus forficatus, Scissor-tailed Flycatcher

Tyrannus savana, Fork-tailed Flycatcher

Family LANIIDAE

Lanius cristatus, Brown Shrike

Lanius ludovicianus, Loggerhead Shrike

Lanius borealis, Northern Shrike

Family VIREONIDAE

Vireo atricapilla, Black-capped Vireo

Vireo griseus, White-eyed Vireo

Vireo crassirostris, Thick-billed Vireo

Vireo latimeri, Puerto Rican Vireo

Vireo gundlachii, Cuban Vireo

Vireo bellii, Bell's Vireo

Vireo vicinior, Gray Vireo

Vireo huttoni, Hutton's Vireo

Vireo flavifrons, Yellow-throated Vireo

Vireo cassinii, Cassin's Vireo

Vireo solitarius, Blue-headed Vireo

Vireo plumbeus, Plumbeous Vireo

Vireo philadelphicus, Philadelphia Vireo

Vireo gilvus, Warbling Vireo

Vireo olivaceus, Red-eyed Vireo

Vireo flavoviridis, Yellow-green Vireo

Vireo altiloquus, Black-whiskered Vireo

Vireo magister, Yucatan Vireo

Family CORVIDAE

Perisoreus canadensis, Canada Jay

Psilorhinus morio, Brown Jay

Cyanocorax yncas, Green Jay

Gymnorhinus cyanocephalus, Pinyon Jay

Cyanocitta stelleri, Steller's Jay

Cyanocitta cristata, Blue Jay

Aphelocoma coerulescens, Florida Scrub-Jay

Aphelocoma insularis, Island Scrub-Jay

Aphelocoma californica, California Scrub-Jay

Aphelocoma woodhouseii, Woodhouse's Scrub-Jay

Aphelocoma wollweberi, Mexican Jay

Nucifraga columbiana, Clark's Nutcracker

Pica hudsonia, Black-billed Magpie

Pica nuttalli, Yellow-billed Magpie

Corvus monedula, Eurasian Jackdaw

Corvus kubaryi, Mariana Crow

Corvus brachyrhynchos, American Crow

Corvus caurinus, Northwestern Crow

Corvus leucognaphalus, White-necked Crow

Corvus imparatus, Tamaulipas Crow

Corvus ossifragus, Fish Crow

Corvus hawaiiensis, Hawaiian Crow

Corvus cryptoleucus, Chihuahuan Raven

Corvus corax, Common Raven

Family ALAUDIDAE

Alauda arvensis, Eurasian Skylark

Eremophila alpestris, Horned Lark

Family HIRUNDINIDAE

Subfamily HIRUNDININAE

Progne subis, Purple Martin

Progne cryptoleuca, Cuban Martin

Progne dominicensis, Caribbean Martin

Progne chalybea, Gray-breasted Martin

Progne elegans, Southern Martin

Progne tapera, Brown-chested Martin

Tachycineta bicolor, Tree Swallow

Tachycineta albilinea, Mangrove Swallow

Tachycineta thalassina, Violet-green Swallow

Tachycineta cyaneoviridis, Bahama Swallow

Stelgidopteryx serripennis, Northern Rough-winged Swallow

Riparia riparia, Bank Swallow

Petrochelidon pyrrhonota, Cliff Swallow

Petrochelidon fulva, Cave Swallow

Hirundo rustica, Barn Swallow

Delichon urbicum, Common House-Martin

Family PARIDAE

Poecile carolinensis, Carolina Chickadee

Poecile atricapillus, Black-capped Chickadee

Poecile gambeli, Mountain Chickadee

Poecile sclateri, Mexican Chickadee

Poecile rufescens, Chestnut-backed Chickadee

Poecile hudsonicus, Boreal Chickadee

Poecile cinctus, Gray-headed Chickadee

Baeolophus wollweberi, Bridled Titmouse

Baeolophus inornatus, Oak Titmouse

Baeolophus ridgwayi, Juniper Titmouse

Baeolophus bicolor, Tufted Titmouse

Baeolophus atricristatus, Black-crested Titmouse

Family REMIZIDAE

Auriparus flaviceps, Verdin

Family AEGITHALIDAE

Psaltriparus minimus, Bushtit

Family SITTIDAE

Subfamily SITTINAE

Sitta canadensis, Red-breasted Nuthatch

Sitta carolinensis, White-breasted Nuthatch

Sitta pygmaea, Pygmy Nuthatch

Sitta pusilla, Brown-headed Nuthatch

Family CERTHIIDAE

Subfamily CERTHIINAE

Certhia americana, Brown Creeper

Family TROGLODYTIDAE

Salpinctes obsoletus, Rock Wren

Catherpes mexicanus, Canyon Wren

Troglodytes aedon, House Wren

Troglodytes pacificus, Pacific Wren

Troglodytes hiemalis, Winter Wren

Cistothorus platensis, Sedge Wren

Cistothorus palustris, Marsh Wren

Thryothorus ludovicianus, Carolina Wren

Thryomanes bewickii, Bewick's Wren

Campylorhynchus brunneicapillus, Cactus Wren

Thryophilus sinaloa, Sinaloa Wren

Family POLIOPTILIDAE

Polioptila caerulea, Blue-Gray Gnatcatcher

Polioptila californica, California Gnatcatcher

Polioptila melanura, Black-tailed Gnatcatcher

Polioptila nigriceps, Black-capped Gnatcatcher

Family CINCLIDAE

Cinclus mexicanus, American Dipper

Family REGULIDAE

Regulus satrapa, Golden-crowned Kinglet

Regulus calendula, Ruby-crowned Kinglet

Family PHYLLOSCOPIDAE

Phylloscopus trochilus, Willow Warbler

Phylloscopus collybita, Common Chiffchaff

Phylloscopus sibilatrix, Wood Warbler

Phylloscopus fuscatus, Dusky Warbler

Phylloscopus proregulus, Pallas's Leaf Warbler

Phylloscopus inornatus, Yellow-browed Warbler

Phylloscopus borealis, Arctic Warbler

Phylloscopus examinandus, Kamchatka Leaf Warbler

Family SYLVIIDAE

Sylvia curruca, Lesser Whitethroat

Chamaea fasciata, Wrentit

Family ACROCEPHALIDAE

Acrocephalus luscinius, Nightingale Reed Warbler

Acrocephalus hiwae, Saipan Reed warbler

Acrocephalus nijoi, Aguiguan Reed Warbler

Acrocephalus yamashinae, Pagan Reed Warbler

Acrocephalus familiaris, Millerbird

Acrocephalus schoenobaenus, Sedge Warbler

Acrocephalus dumetorum, Blyth's Reed Warbler

Family LOCUSTELLIDAE

Locustella ochotensis, Middendorff's Grasshopper-Warbler

Locustella lanceolata, Lanceolated Warbler

Family MUSCICAPIDAE

Muscicapa griseisticta, Gray-streaked Flycatcher

Muscicapa dauurica, Asian Brown Flycatcher

Muscicapa striata, Spotted Flycatcher

Muscicapa sibirica, Dark-sided Flycatcher

Larvivora cyane, Siberian Blue Robin

Larvivora sibilans, Rufous-tailed Robin

Cyanecula svecica, Bluethroat

Calliope calliope, Siberian Rubythroat

Tarsiger cyanurus, Red-flanked Bluetail

Ficedula narcissina, Narcissus Flycatcher

Ficedula mugimaki, Mugimaki Flycatcher

Ficedula albicilla, Taiga Flycatcher

Phoenicurus phoenicurus, Common Redstart

Saxicola torquatus, Stonechat

Oenanthe oenanthe, Northern Wheatear

Family TURDIDAE

Monticola solitarius, Blue Rock-Thrush

Sialia sialis, Eastern Bluebird

Sialia mexicana, Western Bluebird

Sialia currucoides, Mountain Bluebird

Myadestes townsendi, Townsend's Solitaire

Myadestes occidentalis, Brown-backed Solitaire

Myadestes myadestinus, Kçma`o

Myadestes lanaiensis, Oloma`o

Myadestes obscurus, `Oçma'o

Myadestes palmeri, Puaiohi

Catharus aurantiirostris, Orange-billed Nightingale-Thrush

Catharus mexicanus, Black-headed Nightingale-Thrush

Catharus fuscescens, Veery

Catharus minimus, Gray-cheeked Thrush

Catharus bicknelli, Bicknell's Thrush

Catharus ustulatus, Swainson's Thrush

Catharus guttatus, Hermit Thrush

Hylocichla mustelina, Wood Thrush

Turdus obscurus, Eyebrowed Thrush

Turdus naumanni, Dusky Thrush

Turdus pilaris, Fieldfare

Turdus iliacus, Redwing

Turdus grayi, Clay-colored Thrush

Turdus assimilis, White-throated Thrush

Turdus rufopalliatus, Rufous-backed Robin

Turdus migratorius, American Robin

Turdus plumbeus, Red-legged Thrush

Ixoreus naevius, Varied Thrush

Ridgwayia pinicola, Aztec Thrush

Family MIMIDAE

Melanotis caerulescens, Blue Mockingbird

Melanoptila glabrirostris, Black Catbird

Dumetella carolinensis, Gray Catbird

Margarops fuscatus, Pearly-eyed Thrasher

Toxostoma curvirostre, Curve-billed Thrasher

Toxostoma rufum, Brown Thrasher

Toxostoma longirostre, Long-billed Thrasher

Toxostoma bendirei, Bendire's Thrasher

Toxostoma redivivum, California Thrasher

Toxostoma lecontei, LeConte's Thrasher

Toxostoma crissale, Crissal Thrasher

Oreoscoptes montanus, Sage Thrasher

Mimus gundlachii, Bahama Mockingbird

Mimus polyglottos, Northern Mockingbird

Family STURNIDAE

Agropsar philippensis, Chestnut-cheeked Starling

Spodiopsar cineraceus, White-cheeked Starling

Family BOMBYCILLIDAE

Bombycilla garrulus, Bohemian Waxwing

Bombycilla cedrorum, Cedar Waxwing

Family PTILIOGONATIDAE

Ptiliogonys cinereus, Gray Silky-flycatcher

Phainopepla nitens, Phainopepla

Family PEUCEDRAMIDAE

Peucedramus taeniatus, Olive Warbler

Family PRUNELLIDAE

Prunella montanella, Siberian Accentor

Family MOTACILLIDAE

Motacilla tschutschensis, Eastern Yellow Wagtail

Motacilla citreola, Citrine Wagtail

Motacilla cinerea, Gray Wagtail

Motacilla alba, White Wagtail

Anthus trivialis, Tree Pipit

Anthus hodgsoni, Olive-backed Pipit

Anthus gustavi, Pechora Pipit

Anthus cervinus, Red-throated Pipit

Anthus rubescens, American Pipit

Anthus spragueii, Sprague's Pipit

Family FRINGILLIDAE

Subfamily FRINGILLINAE

Fringilla coelebs, Common Chaffinch

Fringilla montifringilla, Brambling

Subfamily EUPHONIINAE

Euphonia musica, Antillean Euphonia

Subfamily CARDUELINAE

Coccothraustes vespertinus, Evening Grosbeak

Coccothraustes coccothraustes, Hawfinch

Carpodacus erythrinus, Common Rosefinch

Melamprosops phaeosoma, Po`ouli

Oreomystis bairdi, `Akikiki

Paroreomyza maculata, O`ahu `Alauahio

Paroreomyza flammea, Kãkãwahie

Paroreomyza montana, Maui `Alauahio

Loxioides bailleui, Palila

Telespiza cantans, Laysan Finch

Telespiza ultima, Nihoa Finch

Palmeria dolei, `Akohekohe

Himatione fraithii, Laysan Honeycreeper

Himatione sanguinea, `Apapane

Drepanis coccinea, `I`iwi

Psittirostra psittacea, `Õ`ũ

Pseudonestor xanthophrys, Maui Parrotbill

Hemignathus hanapepe, Kauai Nukupu`u

Hemignathus lucidus, O`ahu Nukupu`u

Hemignathus affinis, Maui Nukupu`u

Hemignathus wilsoni, `Akiapola`au

Akialoa stejnegeri, Kauai `Akialoa

Akialoa ellisiana, O`ahu `Akialoa

Akialoa lanaiensis, Maui Nui `Akialoa

Magumma parva, `Anianiau

Chlorodrepanis virens, Hawaii `Amakihi

Chlorodrepanis flava, O`ahu `Amakihi

Chlorodrepanis stejnegeri, Kauai `Amakihi

Loxops mana, Hawaii Creeper

Loxops caeruleirostris, `Akeke`e

Loxops wolstenholmei, O`ahu `Akepa

Loxops ochraceus, Maui `Akepa

Loxops coccineus, Hawaii `Akepa

Pinicola enucleator, Pine Grosbeak

Pyrrhula pyrrhula, Eurasian Bullfinch

Leucosticte arctoa, Asian Rosy-Finch

Leucosticte tephrocotis, Gray-crowned Rosy-Finch

Leucosticte atrata, Black Rosy-Finch

Leucosticte australis, Brown-capped Rosy-Finch

Haemorhous mexicanus, House Finch

Haemorhous purpureus, Purple Finch

Haemorhous cassinii, Cassin's Finch

Chloris sinica, Oriental Greenfinch

Acanthis flammea, Common Redpoll

Acanthis hornemanni, Hoary Redpoll

Loxia curvirostra, Red Crossbill

Loxia sinesciuris, Cassia Crossbill

Loxia leucoptera, White-winged Crossbill

Spinus spinus, Eurasian Siskin

Spinus pinus, Pine Siskin

Spinus psaltria, Lesser Goldfinch

Spinus lawrencei, Lawrence's Goldfinch

Spinus tristis, American Goldfinch

Family CALCARIIDAE

Calcarius lapponicus, Lapland Longspur

Calcarius ornatus, Chestnut-collared Longspur

Calcarius pictus, Smith's Longspur

Rhynchophanes mccownii, McCown's Longspur

Plectrophenax nivalis, Snow Bunting

Plectrophenax hyperboreus, McKay's Bunting

Family EMBERIZIDAE

Emberiza leucocephalos, Pine Bunting

Emberiza chrysophrys, Yellow-browed Bunting

Emberiza pusilla, Little Bunting

Emberiza rustica, Rustic Bunting

Emberiza elegans, Yellow-throated Bunting

Emberiza aureola, Yellow-breasted Bunting

Emberiza variabilis, Gray Bunting

Emberiza pallasi, Pallas's Bunting

Emberiza schoeniclus, Reed Bunting

Family PASSERELLIDAE

Arremonops rufivirgatus, Olive Sparrow

Pipilo chlorurus, Green-tailed Towhee

Pipilo maculatus, Spotted Towhee

Pipilo erythrophthalmus, Eastern Towhee

Aimophila ruficeps, Rufous-crowned Sparrow

Melozone fusca, Canyon Towhee

Melozone crissalis, California Towhee

Melozone aberti, Abert's Towhee

Peucaea carpalis, Rufous-winged Sparrow

Peucaea botterii, Botteri's Sparrow

Peucaea cassinii, Cassin's Sparrow

Peucaea aestivalis, Bachman's Sparrow

Spizelloides arborea, American Tree Sparrow

Spizella passerina, Chipping Sparrow

Spizella pallida, Clay-colored Sparrow

Spizella breweri, Brewer's Sparrow

Spizella pusilla, Field Sparrow

Spizella wortheni, Worthen's Sparrow

Spizella atrogularis, Black-chinned Sparrow

Pooecetes gramineus, Vesper Sparrow

Chondestes grammacus, Lark Sparrow

Amphispiza quinquestriata, Five-striped Sparrow

Amphispiza bilineata, Black-throated Sparrow

Artemisiospiza nevadensis, Sagebrush Sparrow

Artemisiospiza belli, Bell's Sparrow

Calamospiza melanocorys, Lark Bunting

Passerculus sandwichensis, Savannah Sparrow

Ammodramus savannarum, Grasshopper Sparrow

Centronyx bairdii, Baird's Sparrow

Centronyx henslowii, Henslow's Sparrow

Ammospiza leconteii, LeConte's Sparrow

Ammospiza maritima, Seaside Sparrow

Ammospiza nelsoni, Nelson's Sparrow

Ammospiza caudacuta, Saltmarsh Sparrow

Passerella iliaca, Fox Sparrow

Melospiza melodia, Song Sparrow

Melospiza lincolnii, Lincoln's Sparrow

Melospiza georgiana, Swamp Sparrow

Zonotrichia albicollis, White-throated Sparrow

Zonotrichia querula, Harris's Sparrow

Zonotrichia leucophrys, White-crowned Sparrow

Zonotrichia atricapilla, Golden-crowned Sparrow

Junco hyemalis, Dark-eyed Junco

Junco phaeonotus, Yellow-eyed Junco

Family NESOSPINGIDAE

Nesospingus speculiferus, Puerto Rican Tanager

Family SPINDALIDAE

Spindalis zena, Western Spindalis

Spindalis portoricensis, Puerto Rican Spindalis

Family ICTERIIDAE

Icteria virens, Yellow-breasted Chat

Family ICTERIDAE

Subfamily XANTHOCEPHALINAE

Xanthocephalus xanthocephalus, Yellow-headed Blackbird

Subfamily DOLICHONYCHINAE

Dolichonyx oryzivorus, Bobolink

Subfamily STURNELLINAE

Sturnella magna, Eastern Meadowlark

Sturnella neglecta, Western Meadowlark

Subfamily ICTERINAE

Icterus portoricensis, Puerto Rican Oriole

Icterus wagleri, Black-vented Oriole

Icterus spurius, Orchard Oriole

Icterus cucullatus, Hooded Oriole

Icterus pustulatus, Streak-backed Oriole

Icterus bullockii, Bullock's Oriole

Icterus gularis, Altamira Oriole

Icterus graduacauda, Audubon's Oriole

Icterus galbula, Baltimore Oriole

Icterus parisorum, Scott's Oriole

Subfamily AGELAIINAE

Agelaius phoeniceus, Red-winged Blackbird

Agelaius tricolor, Tricolored Blackbird

Agelaius humeralis, Tawny-shouldered Blackbird

Agelaius xanthomus, Yellow-shouldered Blackbird

Molothrus bonariensis, Shiny Cowbird

Molothrus aeneus, Bronzed Cowbird

Molothrus ater, Brown-headed Cowbird

Euphagus carolinus, Rusty Blackbird

Euphagus cyanocephalus, Brewer's Blackbird

Quiscalus quiscula, Common Grackle

Quiscalus major, Boat-tailed Grackle

Quiscalus mexicanus, Great-tailed Grackle

Quiscalus niger, Greater Antillean Grackle

Family PARULIDAE

Seiurus aurocapilla, Ovenbird

Helmitheros vermivorum, Worm-eating Warbler

Parkesia motacilla, Louisiana Waterthrush

Parkesia noveboracensis, Northern Waterthrush

Vermivora bachmanii, Bachman's Warbler

Vermivora chrysoptera, Golden-winged Warbler

Vermivora cyanoptera, Blue-winged Warbler

Mniotilta varia, Black-and-white Warbler

Protonotaria citrea, Prothonotary Warbler

Limnothlypis swainsonii, Swainson's Warbler

Oreothlypis superciliosa, Crescent-chested Warbler

Oreothlypis peregrina, Tennessee Warbler

Oreothlypis celata, Orange-crowned Warbler

Oreothlypis crissalis, Colima Warbler

Oreothlypis luciae, Lucy's Warbler

Oreothlypis ruficapilla, Nashville Warbler

Oreothlypis virginiae, Virginia's Warbler

Oporornis agilis, Connecticut Warbler

Geothlypis poliocephala, Gray-crowned Yellowthroat

Geothlypis tolmiei, MacGillivray's Warbler

Geothlypis philadelphia, Mourning Warbler

Geothlypis formosa, Kentucky Warbler

Geothlypis trichas, Common Yellowthroat

Setophaga angelae, Elfin-woods Warbler

Setophaga citrina, Hooded Warbler

Setophaga ruticilla, American Redstart

Setophaga kirtlandii, Kirtland's Warbler

Setophaga tigrina, Cape May Warbler

Setophaga cerulea, Cerulean Warbler

Setophaga americana, Northern Parula

Setophaga pitiayumi, Tropical Parula

Setophaga magnolia, Magnolia Warbler

Setophaga castanea, Bay-breasted Warbler

Setophaga fusca, Blackburnian Warbler

Setophaga petechia, Yellow Warbler

Setophaga pensylvanica, Chestnut-sided Warbler

Setophaga striata, Blackpoll Warbler

Setophaga caerulescens, Black-throated Blue Warbler

Setophaga palmarum, Palm Warbler

Setophaga pinus, Pine Warbler

Setophaga coronata, Yellow-rumped Warbler

Setophaga dominica, Yellow-throated Warbler

Setophaga discolor, Prairie Warbler

Setophaga adelaidae, Adelaide's Warbler

Setophaga graciae, Grace's Warbler

Setophaga nigrescens, Black-throated Gray Warbler

Setophaga townsendi, Townsend's Warbler

Setophaga occidentalis, Hermit Warbler

Setophaga chrysoparia, Golden-cheeked Warbler

Setophaga virens, Black-throated Green Warbler

Basileuterus lachrymosus, Fan-tailed Warbler

Basileuterus rufifrons, Rufous-capped Warbler

Basileuterus culicivorus, Golden-crowned Warbler

Cardellina canadensis, Canada Warbler

Cardellina pusilla, Wilson's Warbler

Cardellina rubrifrons, Red-faced Warbler

Myioborus pictus, Painted Redstart

Myioborus miniatus, Slate-throated Redstart

Family CARDINALIDAE

Piranga flava, Hepatic Tanager

Piranga rubra, Summer Tanager

Piranga olivacea, Scarlet Tanager

Piranga ludoviciana, Western Tanager

Piranga bidentata, Flame-colored Tanager

Rhodothraupis celaeno, Crimson-collared Grosbeak

Cardinalis cardinalis, Northern Cardinal

Cardinalis sinuatus, Pyrrhuloxia

Pheucticus chrysopeplus, Yellow Grosbeak

Pheucticus ludovicianus, Rose-breasted Grosbeak

Pheucticus melanocephalus, Black-headed Grosbeak

Cyanocompsa parellina, Blue Bunting

Passerina caerulea, Blue Grosbeak

Passerina amoena, Lazuli Bunting

Passerina cyanea, Indigo Bunting

Passerina versicolor, Varied Bunting

Passerina ciris, Painted Bunting

Spiza americana, Dickcissel

Family THRAUPIDAE

Subfamily DACNINAE

Cyanerpes cyaneus, Red-legged Honeycreeper

Subfamily COEREBINAE

Coereba flaveola, Bananaquit

Tiaris olivaceus, Yellow-faced Grassquit

Tiaris bicolor, Black-faced Grassquit

Loxigilla portoricensis, Puerto Rican Bullfinch

Subfamily SPOROPHILINAE

Sporophila morelleti, Morelet's Seedeater

* * * * *

Dated: October 29, 2018.
Andrea Travnicek,
Principal Deputy Assistant Secretary—Water and Science, Exercising the Authority of the Assistant Secretary for Fish and Wildlife and Parks.

[FR Doc. 2018-25634 Filed 11-27-18; 8:45 am]

BILLING CODE 4333-15-P